DEPARTMENT OF THE INTERIOR

Bureau of Indian Affairs

[192A2100DD/AAKC001030/A0A501010.999900253G]

Indian Child Welfare Act; Designated Tribal Agents for Service of Notice

AGENCY: Bureau of Indians Affairs, Interior.

ACTION: Notice.

SUMMARY: The regulations implementing the Indian Child Welfare Act provide that Indian Tribes may designate an agent other than the Tribal chairman for service of notice of proceedings under the Act. This notice includes the current list of designated Tribal agents for service of notice.

FOR FURTHER INFORMATION CONTACT: Angie Campbell, Chief, Division of Human Services, Bureau of Indian Affairs, 1849 C Street NW, Mail Stop 3641-MIB, Washington, DC 20240; Phone: (202) 513-7621.

SUPPLEMENTARY INFORMATION: The regulations implementing the Indian Child Welfare Act, 25 U.S.C. 1901 et seq., provide that Indian Tribes may designate an agent other than the Tribal chairman for service of notice of proceedings under the Act. See 25 CFR 23.12. The Secretary of the Interior is required to update and publish in the Federal Register as necessary the names and addresses of the designated Tribal agents. This notice is published in exercise of authority delegated by the Secretary of the Interior to the Assistant Secretary—Indian Affairs by 209 DM 8.

In any involuntary proceeding in a State court where the court knows or has reason to know that an Indian child is involved, and where the identity and location of the child's parent or Indian custodian or Tribe is known, the party seeking the foster-care placement of, or termination of parental rights to, an Indian child must directly notify the parents, the Indian custodians, and the child's Tribe by registered or certified mail with return receipt requested, of the pending child-custody proceedings and their right of intervention. Copies of these notices must be sent to the appropriate Regional Director by registered or certified mail with return receipt requested or by personal delivery. See 25 CFR 23.11.

If the identity or location of the child's parents, the child's Indian custodian, or the Tribes in which the Indian child is a member or eligible for membership cannot be ascertained, but there is reason to know the child is an Indian child, notice of the child-custody proceeding must be sent to the appropriate Bureau of Indian Affairs Regional Director (see www.bia.gov). See 25 CFR 23.111.

No notices, except for final adoption decrees, are required to be sent to the BIA Central Office in Washington, DC.

This notice presents, in two different formats, the names and addresses of current designated Tribal agents for service of notice, and includes each designated Tribal agent received by the Secretary of the Interior prior to the date of this publication. Part A, published in this notice, lists designated Tribal agents by region and alphabetically by Tribe within each region. Part A is also available electronically at http://www.bia.gov/WhoWeAre/BIA/OIS/HumanServices/index.htm.

Part B is a table that lists designated Tribal agents alphabetically by the Tribal affiliation (first listing American Indian Tribes, then listing Alaska Native Tribes). Part B is only available electronically at http://www.bia.gov/WhoWeAre/BIA/OIS/HumanServices/index.htm.

Each format also lists the Bureau of Indian Affairs contact(s) for each of the 12 regions:

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

A. List of Designated Tribal Agents by Region

1. Alaska Region

Alaska Regional Director, Bureau of Indian Affairs, Human Services, 3601 C Street, Suite 1100 Anchorage, Alaska 99503; Phone: (907) 271-4111.

Tribe | ICWA POC | Mailing address | Phone No. | Fax No. | Email address
Afognak, Native Village of | Denise Malutin, ICWA Worker | 115 Mill Bay Road, Kodiak, AK 99615-6332 | (907) 486-6357 | (907) 486-6529 | denise@afognak.org.
Agdaagux Tribe of King Cove | Amanda McAdoo, ICWA Coordinator | 1131 East International Airport Road, Anchorage, AK 99518-1408 | (907) 276-2700 | (907) 222-9735 | icwa@apiai.org.
Akhiok, Native Village of | Cassie Keplinger, Family Services Coordinator | 3449 Rezanof Drive East, Kodiak, AK 99615-6952 | (907) 486-9882 | (907) 486-4829 | cassie.keplinger@kodiakhealthcare.org.
Akiachak Native Community | Georgianna Wassilie, ICWA Community Family Service Specialist | P.O. Box 51070, Akiachak, AK 99551-0070 | (907) 825-4626 | (907) 825-4029 | gwassilie@avcp.org.
Akiachak Native Community | Valerie Andrew, ICWA Director | P.O. Box 219, Bethel, AK 99559 | (907) 543-8691 | (907) 543-7644 | icwa2@avcp.org.
Akiak Native Community | Olinka Jones, ICWA Director | P.O. Box 52127, Akiak, AK 99552 | (907) 765-7112 | (907) 765-7512 | akiakicwadept@gmail.com.
Akutan, Native Village of | Amanda McAdoo, ICWA Coordinator | 1131 E International Airport Road, Anchorage, AK 99518-1408 | (907) 276-2700 | (907) 222-9735 | icwa@apiai.org.
Alakanuk, Village of | Charlene Strilling, ICWA Dept. | P.O. Box 149, Alakanuk, AK 99554-0149 | (907) 543-8691 | (907) 543-7644 | icwa2@avcp.org.
Alakanuk, Village of | Juanita Joseph, Tribal Administrator | P.O. Box 149, Alakanuk, AK 99554-0149 | (907) 238-3419 | (907) 238-3429 | auktc0149@gmail.com.
Alatna Village | Tribal Administrator | P.O. Box 70, Allakaket, AK 99720 | (907) 968-8397 | (907) 968-2304
Alatna Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Aleknagik, Native Village of | Jane Gottschalk, Caseworker | P.O. Box 115, Aleknagik, AK 99555 | (907) 842-4577 | (907) 842-2229 | aleknagokicwa@bbna.com.
Aleknagik, Native Village of | Crystal Nixon-Luckhurst, Children's Services Division Manager | P.O. Box 310, 1500 Kanakanak Road, Dillingham, AK 99576 | (907) 842-4139 | (907) 842-4106 | cnixon@bbna.com.
Algaaciq Native Village (St. Mary's) | Tribal Administrator, ICWA Community Family Service Specialist | Box 48, St. Mary's, AK 99658-0048 | (907) 438-2335 | (907) 438-2227.
Algaaciq Native Village (St. Mary's) | Valerie Andrew, ICWA Director | P.O. Box 219, Bethel, AK 99559 | (907) 543-8691 | (907) 543-7644 | icwa2@avcp.org.
Allakaket Village | Elisa Bergman, Tribal Family Youth Specialist | P.O. Box 50, Allakaket, AK 99720 | (907) 968-2237 | (907) 968-2233 | Elisa.Bergman@tananachiefs.org.
Allakaket Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Ambler, Native Village of | Beatrice Miller, ICWA Coordinator; Katherine Cleveland, Council; Virginia Commack, Tribe Manager; Shield Downy, Jr., Council | P.O. Box 47, Ambler, AK 99786 | (907) 445-2196 | (907) 445-2257 | icwa@ivisaappaat.org; tribemanager@ivisaappaat.org.
Anaktuvuk Pass, Village of | Joshua Stein, Director of Social Services | P.O. Box 1232, Barrow, AK 99723-1232 | (907) 852-9374 | (907) 852-2761 | joshua.stein@arcticslope.org.
Andreafski (see Yupiit of Andreafski).
Angoon Community Association | Marlene Zuboff, ICWA Worker | P.O. Box 328, Angoon, AK 99820 | (907) 788-3411 | (907) 788-3412 | mzuboff.agntribe@gmail.com.
Aniak, Village of | Muriel Morgan, ICWA Worker | P.O. Box 349, Aniak, AK 99556 | (907) 675-4349 | (907) 675-4513 | twinksmorgan@gmail.com.
Anvik Village | Kristen Kruger, Tribal Family Youth Specialist | P.O. Box 10, Anvik, AK 99558 | (907) 663-6322 | (866) 524-5035.
Anvik Village | Miriam A. Titus, Child Protection Manager; Carol Rose, ICWA Advocate | 122 First Avenue, Suite 600, Fairbanks, AK 99701-4899 | (907) 452-8251, Ext. 3659 | (907) 459-3984 | miriam.titus@tananachiefs.org; carol.rose@tananachiefs.org.
Arctic Village | Margorie Gemmill, Tribal Administrator | P.O. Box 22069, Arctic Village, AK 99722 | (907) 587-5523 | (907) 587-5128.
Arctic Village | Miriam A. Titus, Child Protection Program Manager; Carol Rose, ICWA Advocate | 122 First Avenue, Suite 600, Fairbanks, AK 99701 | (907) 452-8251, Ext. 3659 | (907) 459-3984 | miriam.titus@tananachiefs.org; carol.rose@tananachiefs.org.
Asa'carsarmiut Tribe (formerly Native Village of Mountain Village) | Darlene Peterson, Jacqueline Landlord, Directors of Social Services & Education I/II | P.O. Box 32107, Mountain Village, AK 99632-0107 | (907) 591-2428 | (907) 591-2934 | atcicwa@gci.net.
Atka, Native Village of | Amanda McAdoo, ICWA Coordinator | 1131 E. International Airport Road, Anchorage, AK 99518-1408 | (907) 276-2700 | (907) 222-9735 | icwa@apiai.org.
Atmautluak, Village of | Andrew Steven, Tribal Administrator | P.O. Box 6568, Atmautluak, AK 99559-6568 | (907) 553-5610 | (907) 553-5612 | atmautluaktc@gmail.com.
Atqasuk Village | Joshua Stein, Director of Social Services | P.O. Box 1232, Atqasuk, AK 99723-1232 | (907) 852-9374 | (907) 852-2761 | joshua.stein@arcticslope.org.
Barrow Inupiat Traditional Government, Native Village of | Jeanne Pete, Social Services Director | P.O. Box 1130, Barrow, AK 99723 | (907) 852-4411; (907) 852-8908 | (907) 852-4413 | jeanne.pete@nvbarrow.net.
Beaver Village | Arlene Pitka, Tribal Family Youth Specialist | P.O. Box 24029, Beaver, AK 99724 | (907) 628-6126; (907) 628-2252 | (907) 628-6815.
Beaver Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Belkofski, Native Village of | Amanda McAdoo, ICWA Coordinator | 1131 East International Airport Road, Anchorage, AK 99518-1408 | (907) 276-2700 | (907) 222-9735 | icwa@apiai.org.
Bethel (see Orutsararmuit Native Council).
Bettles Field (see Evansville Village).
Bill Moore's Slough, Village of | Rose A. Cheemuk, Tribal Administrator; Emma Matthias, ICWA Worker | P.O. Box 20288, Kotlik, AK 99620-0288 | (907) 899-4232; (907) 899-4236 | (907) 899-4461; (907) 899-4002 | bms99620@gmail.com; bmsicwa@gmail.com.
Birch Creek Tribe | Jackie Balaam, Tribal Family Youth Specialist | 3202 Shell Street, Fairbanks, AK 99701 | (907) 378-1573 | (907) 374-9925.
Birch Creek Tribe | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Brevig Mission, Native Village of | Linda Divers, Tribal Family Coordinator | P.O. Box 85039, Brevig Mission, AK 99785-0039 | (907) 642-3012 | (907) 443-3042 | ldivers@kawerak.org.
Brevig Mission, Native Village of | Heather Payenna, CFS Manager | P.O. Box 948, Nome, AK 99762 | (907) 443-4261 | (907) 443-4601 | hpayenna@kawerak.org.
Buckland, Native Village of | Courtney Hadley, ICWA Coordinator—Tribal Clerk | P.O. Box 67, Buckland, AK 99727-0067 | (907) 494-2169 | (907) 494-2192 | icwa@nunachiak.org.
Cantwell, Native Village of (Copper River Native Association) | Arleen Lenard, ICWA Advocate | P.O. Box H, Copper Center, AK 99573-0508 | (907) 822-5241, Ext. 2047 | (907) 959-2389 | alenard@crnative.org.
Central Council of the Tlingit and Haida Indian Tribes | Barbara Dude, Family Services Administrator | 320 W Willoughby Ave., Suite 300, Juneau, AK 99801-1772 | (907) 463-7169 | (907) 885-0032 | icwamail@ccthita-nsn.org.
Chalkyitsik Village | Robin Jonas, Tribal Administrator | P.O. Box 57, Chalkyitsik, AK 99788 | (907) 848-8117 | (907) 848-8986 | RobinJonas63@outlook.com.
Chalkyitsik Village | Miriam A. Titus, Child Protection Program Manager; Carol Rose, ICWA Advocate | 122 First Ave., Suite 600, Fairbanks, AK 99701-4899 | (907) 848-8117 | (907) 848-8986 | miriam.titus@tananachiefs.org; carol.rose@tananachiefs.org.
Cheesh-Na Tribe | Donna Boston, ICWA | HCO1 Box 217, Gakona, AK 99586 | (907) 822-3503 | (907) 822-5179 | adminassist@cheeshna.com.
Chefornak, Village of | Edward Kinegak, ICWA Specialist | P.O. Box 110, Chefornak, AK 99561-0110 | (907) 867-8808 | (907) 867-8711 | suckaq@gmail.com.
Chenega, Native Village of | Norma J. Selanoff, ICWA Representative | P.O. Box 8079, Chenega Bay, AK 99574-8079 | (907) 573-2086 |  | taaira@nativevillageofchanega.com.
Chevak Native Village | Roger Imgalrea, ICWA Community Family Service Specialist | P.O. Box 140, Chevak, AK 99563-0140 | (907) 858-7428 | (907) 858-7812 | RImgalrea1@avcp.org.
Chevak Native Village | Valerie Andrew, ICWA Director | P.O. Box 219, Chevak, AK 99559 | (907) 543-8691 | (907) 858-7812 | ICWA2@AVCP.org.
Chickaloon Native Village | Lisa Wade, Health, Education, & Social Services Director | P.O. Box 1105, Chickaloon, AK 99674-1105 | (907) 745-0749 | (907) 745-0709 | lrwade@chickaloon-nsn.gov; cvadmin@chickaloon-nsn.gov.
Chignik Bay Tribal Council | Debbie Carlson, Administrator | P.O. Box 11, Chignik Bay, AK 99564 | (907) 749-2445 | (907) 749-2423 | chignikbayadmin@bbna.com.
Chignik Bay Tribal Council | Crystal Nixon-Luckhurst, Children's Services Division Manager | P.O. Box 310, 1500 Kanakanak Road, Dillingham, AK 99576 | (907) 842-4139 | (907) 842-4106 | cnixon@bbna.com.
Chignik Lagoon, Native Village of | Nancy Mills, ICWA Case Worker | P.O. Box 9, Chignik Lagoon, AK 99565-0009 | (907) 444-4060 | (907) 840-2282 | chigniklagoonicwa@bbna.com.
Chignik Lagoon, Native Village of | Crystal Nixon-Luckhurst, Children's Services Division Manager | P.O. Box 310, 1500 Kanakanak Road, Dillingham, AK 99576 | (907) 842-4139 | (907) 842-4106 | cnixon@bbna.com.
Chignik Lake Village | Natalie Lind, Administrator | P.O. Box 33, Chignik Lake, AK 99548-0033 | (907) 845-2212 | (907) 845-2217 | chigniklakevillageadmin@bbna.com.
Chignik Lake Village | Crystal Nixon-Luckhurst, Children's Services Division Manager | P.O. Box 310, 1500 Kanakanak Road, Dillingham, AK 99576 | (907) 842-4139 | (907) 842-4106 | cnixon@bbna.com.
Chilkat Indian Village (Klukwan) | Carrie-Ann Durr, ICWA Worker | HC 60 Box 2207, Haines, AK 99827 | (907) 767-5505, Ext. 3 | (907) 767-5408 | cdurr@chilkat-nsn.gov.
Chilkoot Indian Association (Haines) | Georgiana Hotch, Family Caseworker; Barbara Dude, Family Services Administrator | P.O. Box 624, Haines, AK 99827-0624; 320 W. Willoughby Ave., Suite 300, Juneau, AK 99801-1772 | (907) 766-2323, Ext. 9; (907) 463-7169 | (907) 766-2845; (907) 885-0032 | ghotch@ccthita-nsn.org; icwamail@ccthita-nsn.org.
Chinik Eskimo Community (aka Golovin) | Kirstie Ione, Tribal Family Coordinator | P.O. Box 62019, Golovin, AK 99762-0019 | (907) 779-3489 | (907) 779-2000 | kione@kawerak.org.
Chinik Eskimo Community (aka Golovin) | Heather Payenna, CFS Manager | P.O. Box 948, Nome, AK 99762 | (907) 443-4261 | (907) 443-4601 | hpayenna@kawerak.org.
Chistochina (see Cheesh-na Tribe).
Chitina, Native Village of | Gyna Gordon, ICWA Advocate | P.O. Box 31, Chitina, AK 99566 | (907) 823-2215 | (907) 823-2285 | ggordonCTIVCicwa@outlook.com.
Chuathbaluk, Native Village of | Valerie Andrew, ICWA Director | P.O. Box 219, Bethel, AK 99559 | (907) 543-8691 | (907) 543-7644 | icwa2@avcp.org.
Chuathbaluk Native Village of (Russian Mission, Kuskokwin) | Teresa Simeon-Hunter, ICWA Community Family Service Specialist | P.O. Box CHU, Chuathbaluk, AK 99557 | (907) 467-4313 | (907) 467-4113 | tshunter@avcp.org.
Chuloonawick Native Village | Roberta Murphy, President; Lois Isaac, Administrator | P.O. Box 245, Emmonak, AK 99581 | (907) 949-1345 | (907) 949-1346 | chuloonawick@gci.net.
Circle Native Community | Jessica Fields, Tribal Family Youth Specialist | P.O. Box 89, Circle, AK 99733 | (907) 773-2822 | (907) 773-2823 | jessica.fields@tananachiefs.org.
Circle Native Community | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Clarks Point, Village of | Danielle Aikins, Administrator | P.O. Box 90, Clarks Point, AK 99569-0090 | (907) 236-1427 | (907) 236-1428 | clarkspointadmin@bbna.com.
Clarks Point, Village of | Crystal Nixon-Luckhurst, Children's Services Division Manager | P.O. Box 310, 1500 Kanakanak Road, Dillingham, AK 99576 | (907) 842-4139 | (907) 842-4106 | cnixon@bbna.com.
Copper Center (see Native Village of Kluti-Kaah).
Cordova (see Eyak).
Council, Native Village of | Christy Schuneman, Tribal Family Coordinator | P.O. Box 2050, Nome, AK 99762-2050 | (907) 443-4499 | (907) 443-6433 | cschuneman@kawerak.org.
Craig Tribal Association | Heather Payenna, CFS Manager | P.O. Box 948, Nome, AK 99762-0948 | (907) 443-4261 | (907) 443-4601 | hpayenna@kawerak.org.
Craig Tribal Association | Barbara Dude, Family Services Administrator | 320 W. Willoughby Ave., Suite 300, Juneau, AK 99801-1772 | (907) 463-7169 | (907) 885-0032 | icwamail@ccthita-nsn.org.
Crooked Creek, Village of | Helen Macar, ICWA Community Family Service Specialist; Valerie Andrew, ICWA Director | P.O. Box 69, Crooked Creek, AK 99575-0069; P.O. Box 219, Bethel, AK. 99559 | (907) 432-2231; (907) 543-8691 | (907) 432-2201; (907) 543-7644 | hmacar@avcp.org; icwa2@avcp.org.
Curyung Tribal Council (formerly the Native Village of Dillingham) | Deanna Baier, Case Worker ICWA | P.O. Box 216, Dillingham, AK 99576-0216 | (907) 842-4508 | (907) 842-4510 | dillinghamicwa@bbna.com.
Curyung Tribal Council (formerly the Native Village of Dillingham) | Crystal Nixon-Luckhurst, Children's Services Division Manager | P.O. Box 310, 1500 Kanakanak Road, Dillingham, AK 99576 | (907) 842-4139 | (907) 842-4106 | cnixon@bbna.com.
Deering, Native Village of | Pearl Moto, ICWA Coordinator | P.O. Box 36089, Deering, AK 99736-0089 | (907) 363-2229 | (907) 363-2195 | drgicwa@gmail.com.
Deering, Native Village of | Jackie Hill, Director | P.O. Box 256, Kotzebue, AK 99752-0256 | (907) 442-7879 | (907) 442-7885 | jackie.hill@maniilaq.org.
Dillingham (see Curyung Tribal Council).
Diomede (aka Inalik), Native Village of | Celeste Menadelook, Tribal Family Coordinator | P.O. Box 62019, Nome, AK 99762-0019 | (907) 779-2385 | (907) 779-2386 | cmenadelook@kawerak.org.
Diomede (aka Inalik), Native Village of | Heather Payenna, CFS Manager | P.O. Box 948, Nome, AK 99762-0948 | (907) 443-4261 | (907) 443-4601 | hpayenna@kawerak.org.
Dot Lake, Village of | Tracy Charles-Smith, President | P.O. Box 70494, Fairbanks, AK 99701-0494 | (907) 347-1251 | (907) 882-5558 | mwalleri@fairbanksaklaw.com.
Douglas Indian Association | Andrea Cadiente Laiti, Tribal Administrator | 811 West 12th Street, Juneau, AK 99801-1529 | (907) 364-2916 | (907) 364-2917 | alaiti-dia@gci.net.
Eagle, Native Village of | Claire Ashley, Tribal Family Youth Specialist | P.O. Box 19, Eagle, AK 99738 | (907) 547-2271 | (907) 547-2318 | claire.ashley@tananachiefs.org.
Eagle, Native Village of | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Edzeno (see Nikolai Village).
Eek, Native Village of | Lillian Cleveland, ICWA Community Family Service Specialist | P.O. Box 63/89, Eek, AK 99578 | (907) 536-5572 | (907) 536-5582 | lcleveland@avcp.org.
Eek, Native Village of | Valerie Andrew, ICWA Director | P.O. Box 219, Bethel, AK 99559 | (907) 543-8691 | (907) 543-7644 | icwa2@avcp.org.
Egegik Village | Marcia Abalama, Case Worker ICWA | P.O. Box 154, Egegik, AK 99579-0154 | (907) 233-2207 | (907) 233-2312 | egegikicwa@bbna.com.
Egegik Village | Crystal Nixon-Luckhurst, Children's Services Division Manager | P.O. Box 310, 1500 Kanakanak Road, Dillingham, AK 99576 | (907) 842-4139 | (907) 842-4106 | cnixon@bbna.com.
Eklutna Native Village | Dawn Harris, ICWA Worker | 26339 Eklutna Village Road, Chugiak, AK 99567 | (907) 688-6031 | (907) 688-6021 | nve.socialservice@eklutna-nsn.gov.
Ekuk, Native Village of | Diane Folsom, Administrator | P.O. Box 530, Dillingham, AK 99576-0530 | (907) 842-3842 | (907) 233-3843 | ekukadmin@bbna.com.
Ekuk, Native Village of | Crystal Nixon-Luckhurst, Children's Services Division Manager | P.O. Box 310, 1500 Kanakanak Road, Dillingham, AK 99576 | (907) 842-4139 | (907) 842-4106 | cnixon@bbna.com.
Ekwok, Native Village of (previously listed as Ekowok Village) | Richard King, Administrator | P.O. Box 70, Ekwok, AK 99580 | (907) 464-3336 | (907) 464-3378 | ekwokadmin@bbna.com.
Ekwok, Native Village of (previously listed as Ekowok Village) | Crystal Nixon-Luckhurst, Children's Services Division Manager | P.O. Box 310, 1500 Kanakanak Road, Dillingham, AK 99576 | (907) 842-4139 | (907) 842-4106 | cnixon@bbna.com.
Elim, Native Village of | Joseph Murray, Jr., Tribal Family Coordinator | P.O. Box 70, Elim, AK 99739-0070 | (907) 890-2457 | (907) 890-2458 | jmurrayjr@kawerak.org.
Elim, Native Village of | Heather Payenna, CFS Manager | P.O. Box 948, Nome, AK 99762-0948 | (907) 443-4261 | (907) 443-4601 | hpayenna@kawerak.org.
Emmonak Village | Bambi Akers, Tribal Administrator; Charlene Striling, ICWA Dept | P.O. Box 126, Emmonak, AK 99581-0216; P.O. Box 149, Alakanuk, AK 99554-0149 | (907) 949-1720; (907) 543-8691 | (907) 949-1384; (907) 543-7644 | emktribal@gmail.com; icwa2@avcp.org.
English Bay (see Native Village of Nanwalek).
Evansville Village (aka Bettles Field) | Naomi Costello, Tribal Administrator | P.O. Box 26087, Bettles Field, AK 99726 | (907) 692-5005 | (907) 692-5006 | evanvillealaska@gmail.com.
Evansville Village (aka Bettles Field) | Miriam A. Titus, Child Protection Manager; Carol Rose, ICWA Advocate | 122 First Avenue, Suite 600, Fairbanks, AK 99701-4899 | (907) 452-8251, Ext. 3659 | (907) 459-3984 | miriam.titus@tananachiefs.org; carol.rose@tananachiefs.org.
Eyak, Native Village of (Cordova) | Cheryl Eleshansky, ICWA Coordinator | P.O. Box 1388, Cordova, AK 99574-1388 | (907) 424-7738; (907) 424-2238 | (907) 424-7809 | icwa@eyak-nsn.gov; cheryl.eleshansky@eyak-nsn.gov.
False Pass, Native Village of | Amanda McAdoo, ICWA Coordinator | Aleutian/Pribilof Islands Association, 1131 East International Airport Road, Anchorage, AK 99518-1408 | (907) 276-2700 | (907) 222-9735 | icwa@apiai.org.
Fort Yukon, Native Village (See Gwichyaa Zhee Gwich'in).
Fortuna Ledge (see Native Village of Marshall).
Gakona, Native Village of | Lisa Nicolai, ICWA Worker | P.O. Box 102, Gakona, AK 99586-0102 | (907) 822-5777 | (907) 822-5997 | gakonaprojects@gmail.com.
Galena Village (aka Louden Village) | Katherine Dozette, Indian Child Welfare Act Director | P.O. Box 244, Galena, AK 99741-0244 | (907) 656-2529 | (907) 656-2491 | katherine.dozette@loudentribe.com.
Gambell, Native Village of | Dinah Iknokinok-Toolie, Tribal Family Coordinator; Heather Payenna, CFS Manager | P.O. Box 90, Gambell, AK 99742-0090; P.O. Box 948, Nome, AK 99762-0948 | (907) 985-5118; (907) 443-4261 | (907) 985-5119; (907) 443-4601 | Diknokinok-Toolie@kawerak.org; hpayenna@kawerak.org.
Georgetown, Native Village of | Will Hartman, Tribal Administrator | 5313 Arctic Blvd., Suite 104, Anchorage, AK 99518-1111 | (907) 274-2195 | (907) 274-2196 | Will.hartman@georgetowntc.com.
Golovin (see Chinik Eskimo Community).
Goodnews Bay, Native Village of | Pauline Echuk, ICWA Community Family Service Specialist | P.O. Box 138, Goodnews Bay, AK 99589-0138 | (907) 967-8929 | (907) 967-8330 | pechuck@avcp.org.
Goodnews Bay, Native Village of | Valerie Andrew, ICWA Director | P.O. Box 219, Bethel, AK 99559-0219 | (907) 543-8691 | (907) 543-7644 | icwa2@avcp.org.
Grayling (see Organized Village of Grayling).
Gulkana Village Council (previously listed as Gulkana Village) | Rachel Stratton Morse, Family Services Coordinator | P.O. Box 254, Gakona, AK 99586-0254 | (907) 822-5363 | (907) 822-3976 | icwa@gulkanacouncil.org.
Gwichyaa Zhee Gwich'in (listed as Native Village of Fort Yukon) | Sandra Shepherd, Tribal Court Clerk | P.O. Box 10, Fort Yukon, AK 99740-0010 | (907) 662-2581, Ext. 201 | (907) 662-3118 | Sandra.Shepherd@fortyukon.org.
Gwichyaa Zhee Gwich'in (formerly Native Village of Fort Yukon) | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Haines (see Chilkoot Indian Association).
Hamilton, Native Village of | Tribal Administrator | P.O. Box 20248 Kotlik, AK 99620-0248 |  | (907) 899-4290.
Hamilton, Native Village of | Valerie Andrew, ICWA Director | P.O. Box 219, Bethel, AK 99559-0219 | (907) 543-8691 | (907) 543-7644 | ICWA2@AVCP.org.
Healy Lake Village | Bertha Rickman | P.O. Box 74090, Fairbanks, AK 99707 | (907) 371-9361 | (907) 876-5505 | Bertha.Rickman@tananachiefs.org.
Healy Lake Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Holikachuk (see Grayling).
Holy Cross Tribe | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Holy Cross Tribe (previously listed as the Holy Cross Village) | Rebecca Demientieff, Tribal Family Youth Specialist | P.O. Box 191, Holy Cross, AK 99602 | (907) 476-7124, Ext. 105 | (907) 476-7132 | rebecca.demientieff@tananachiefs.org.
Hoonah Indian Association | Joyce Skaflestad, Human Development Department Manager/ICWA Caseworker | P.O. Box 602, Hoonah, AK 99829-0602 | (907) 945-3545, Ext. 139 | (907) 945-3140 | jskaflestad@hiatribe.org.
Hooper Bay, Native Village of | Nastasia Ulroan, Teresa Nanuk, ICWA Community Family Service Specialist | P.O. Box 62/69, Hooper Bay, AK 99604 | (907) 758-4006 | (907) 758-4606 | nulroan@avcp.org; Tnanuk@avcp.org.
Hooper Bay, Native Village of | Valerie Andrew, ICWA Director | P.O. Box 219, Bethel, AK 99559 | (907) 543-8691 | (907) 543-7644 | ICWA2@AVCP.org.
Hughes Village | Ella Sam, Tribal Family Youth Specialist | P.O. Box 45029, Hughes, AK 99745 | (907) 889-2261/2239 | (907) 889-2252 | ella.sam@tananachiefs.org.
Hughes Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Huslia Village | Shandara Swatling, Tribal Family Youth Specialist | P.O. Box 70, Huslia, AK 99746 | (907) 829-2202 | (907) 829-2214 | shandara.swatling@tananachiefs.org.
Huslia Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Hydaburg Cooperative Association | Doreen Witwer, Tribal Administrator | P.O. Box 349, Hydaburg, AK 99922-0349 | (907) 285-3666 | (907) 285-3541 | HCATribe@gmail.com.
Igiugig Village | Alicia Zackar, Social Services Director | P.O. Box 4008, Igiugig, AK 99613-4008 | (907) 533-3211 | (907) 533-3217 | alicia.s.zachar@gmail.com.
Iliamna, Village of | Louise Anelon, Deputy Admin/ICWA Worker | P.O. Box 286, Iliamna, AK 99606-0286 | (907) 571-1246 | (907) 571-3539 | louise.anelon@iliamnavc.org.
Inupiat Community of the Arctic Slope | Marie H. Ahsoak, Social Services Director | P.O. Box 934, Barrow, AK 99723-0934 | (907) 852-5923 | (907) 852-5924 | social@inupiatgov.com; marie.ahsoak@inupiatgov.com.
Iqurmuit Traditional Council (aka Russian Mission) | Katie Nick, ICWA Community Family Service Specialist | P.O. Box 38/09, Russian Mission, AK 99657 | (907) 584-5594 | (907) 584-5596 | knick@avcp.org.
Iqurmuit Traditional Council (aka Russian Mission) | Valerie Andrew, ICWA Director | P.O. Box 219, Bethel, AK 99559 | (907) 543-8691 | (907) 543-7644 | ICWA2@AVCP.org.
Ivanoff Bay Tribe (previously listed as the Ivanoff Bay Tribe & Ivanoff Bay Village) | Nicole Cabrera, Administrator | 6407 Brayton Dr., Suite 201, Anchorage, AK 99507-2149 | (907) 522-2263 | (907) 522-2363 | ivanoffbayadmin@bbna.com.
Ivanoff Bay Tribe (previously listed as the Ivanoff Bay Tribe & Ivanoff Bay Village) | Crystal Nixon-Luckhurst, Children's Services Division Manager | P.O. Box 310, 1500 Kanakanak Road, Dillingham, AK 99576 | (907) 842-4139 | (907) 842-4106 | cnixon@bbna.com.
Kaguyak Village | Alyssa Brenteson, Tribal Manager | P.O. Box 5078, Akhiok, AK 99615-5078 | (907) 836-2231 |  | kaguyak.tribal.council@gmail.com.
Kake (see Organized Village of Kake).
Kaktovik, Village of (aka Barter Island) | Joshua Stein, Director of Social Services | P.O. Box 1232, Barrow, AK 99723-1232 | (907) 852-9374 | (907) 852-2761 | joshua.stein@arcticslope.org.
Kalskag, Village of (aka Upper Kalskag) | Administrator | P.O. Box 50, Upper Kalskag, AK 99607 | (907) 471-2296 | (907) 471-2399.
Kalskag, Village of (aka Upper Kalskag) | Valerie Andrew, ICWA Director | P.O. Box 219, Bethel, AK 99559-0219 | (907) 543-8691 | (907) 543-7644 | ICWA2@AVCP.org.
Kaltag, Village of | Tribal President | P.O. Box 129, Kaltag, AK 99748 | (907) 534-2224 | (907) 534-2264
Kaltag, Village of | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Kanatak, Native Village | Shawn Shanigan, Administrator | P.O. Box 876822, Wasilla, AK 99687-6822 | (907) 357-5991 | (907) 357-5992 | kanatakadmin@bbna.com.
Kanatak, Native Village | Crystal Nixon-Luckhurst, Children's Services Division Manager | P.O. Box 310, 1500 Kanakanak Road, Dillingham, AK 99576 | (907) 842-4139 | (907) 842-4106 | kanatak@mtaonline.net.
Karluk, Native Village of | Kristeen Reft, Tribal Clerk | P.O. Box 22, Karluk, AK 99608 | (907) 241-2238 | (907) 241-2213 | karlukiracouncil@aol.com.
Kashnumiut Tribe (see Chevak).
Kasigluk Traditional Elders Council.
Kassan (see Organized Village of Kasaan).
Kenaitze Indian Tribe (see Chevak Native Village).
Ketchikan Indian Corporation | Lynn Quan, Social Services Director; Douglas J. Gass, ICWA Specialist | 201 Deermount St., Ketchikan, AK 99901-6649 | (907) 228-9327; (907) 228-9294 | (800) 378-0469 | lquan@kictribe.org; dgass@kictribe.org.
Kiana, Native Village of | Delores Barr, Tribe Director; Lorena Walker, ICWA Coordinator | P.O. Box 69, Kiana, AK 99749-0069 | (907) 475-2109; (907) 475-2226 | (907) 475-2180; (907) 475-2266 | tribedirector@katyaaq.org;icwa@katyaaq.org.
King Cove (see Agdaagux Tribe of King Cove).
King Island Native Community | Heather Payenna, Tribal Family Coordinator | P.O. Box 682, Nome, AK 99762-0682 | (907) 443-4497 | (907) 443-8049 | hpayenna@kawerak.org.
King Island Native Community | Heather Payenna, CFS Manager | P.O. Box 948, Nome, AK 99762-0948 | (907) 443-4261 | (907) 443-4601 | hpayenna@kawerak.org.
King Salmon Tribe | Tribal Administrator | P.O. Box 68, King Salmon, AK 99613-0068 | (907) 246-3553; (907) 246-3447 | (907) 246-3449.
Kipnuk, Native Village of | Vacant, ICWA Community Family Service Specialist | P.O. Box 57, Kipnuk, AK 99614 | (907) 896-5430 | (907) 896-5704.
Kipnuk, Native Village of | Valerie Andrew, ICWA Director | P.O. Box 219, Bethel, AK 99559 | (907) 543-8691 | (907) 543-7644 | ICWA2@AVCP.org.
Kivalina, Native Village of | Stanley Hawley, Administrator | P.O. Box 50051, Kivalina, AK 99750 | (907) 645-2153 | (907) 645-2193 | tribeadmin@kivaliniq.org.
Kivalina, Native Village of | Jackie Hill, Director | P.O. Box 256, Kotzebue, AK 99752-0256 | (907) 442-7879 | (907) 442-7885 | jackie.hill@maniilaq.org.
Klawock Cooperative Association | Cynthia Mills, Family Caseworker II; Barbara Dude, Family Services Administrator | P.O. Box 173, Klawock, AK 99925-0173; 320 W Willoughby Ave., Suite 300, Juneau, AK 99801-1772 | (907) 755-2326; (907) 463-7169 | (907) 885-0032; (907) 885-0032 | icwamail@ccthita-nsn.org.
Klukwan (see Chilkat Indian Village).
Kluti-Kaah, Native Village of (aka Copper Center) | Arleen Lenard, ICWA Advocate | P.O. Box H, Copper Center, AK 99573-0508 | (907) 822-5241, Ext. 2047 | (888) 959-2389 | alenard@crnative.org.
Knik Tribe | Geraldine Nicoli-Ayonayon, ICWA Manager | P.O. Box 871565, Wasilla, AK 99687-1565 | (907) 373-7991 | (907) 373-2153 | gnayonayon@kniktribe.org.
Kobuk, Native Village of | Johnetta Horner, President | P.O. Box 51039, Kobuk, AK 99751-0039 | (907) 948-2203 | (907) 948-2123 | tribeadmin@laugvik.org.
Kobuk, Native Village of | Jackie Hill, Director | P.O. Box 256, Kotzebue, AK 99752-0256 | (907) 442-7879 | (907) 442-7885 | jackie.hill@maniilaq.org.
Kodiak, Native Village of (see Sun'aq Tribe of Kodiak).
Kokhanok Village | Colleen Williams, Tribal Administrator | P.O. Box 1007, Kokhanok, AK 99606-1007 | (907) 282-2202 | (907) 282-2221 | kokhanokicwa@gmail.com.
Kokhanok Village | Mary Andrew, Caseworker | P.O. Box 1007, Kokhanok, AK 99606 | (907) 282-2224 | (907) 282-2221 | kokhanokicwa@bbna.com.
Koliganek Village (see New Kolignanek Village Council).
Kongiganak, Native Village of | Joseph Mute, Tribal Administrator | P.O. Box 5069, Kongiganak, AK 99545-5069 | (907) 557-5226/5225 | (907) 557-5224 | Kong.tribe@gmail.com.
Kotlik, Village of | Anna V. Hunt, ICWA CFSS 1 | P.O. Box 20210, Kotlik, AK 99620-0210 | (907) 899-4459 | (907) 899-4467 | AHunt@avcp.org.
Kotlik, Village of | Charlene Striling, ICWA CFSS III | P.O. Box 219, Bethel, AK 99559-0219 | (907) 543-8691 | (907) 543-7644 | ICWA2@AVCP.org.
Kotzebue, Native Village of | Bibianna Scott, Tribal Family Services Director | P.O. Box 296, Kotzebue, AK 99752-0296 | (907) 442-3467 | (907) 442-4013 | bibianna.scott@qira.org.
Koyuk, Native Village of | Jenna Homekingkeo, Tribal Family Coordinator | P.O. Box 53149, Koyuk, AK 99753-0149 | (907) 963-2215 | (907) 963-2300 | jhomekingkeo@kawerak.org.
Koyuk, Native Village of | Heather Payenna, CFS Manager | P.O. Box 948 Nome, AK 99762-0948 | (907) 443-4261 | (907) 443-4601 | hpayenna@kawerak.org.
Koyukuk Native Village | Rachel Lolnitz, Tribal Family Youth Specialist | P.O. Box 109, Koyukuk, AK 99754 | (907) 927-2208 | (907) 927-2221 | Rachel.Lolnitz@tananachiefs.org.
Koyukuk Native Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Kwethluk (see Organized Village of Kwethluk).
Kwigillingok, Native Village of | Andrew Beaver, ICWA Program Director | P.O. Box 90, Kwigillingok, AK 99622-0090 | (907) 588-8114, Ext. 121 | (907) 588-8429 | abeaver@kwigtribe.org.
Kwinhagak, Native Village of (aka Quinhagak) | Minnie Mark, ICWA; Valerie Andrew, ICWA Director | P.O. Box 149, Quinhagak, AK 99655-0149; P.O. Box 219, Bethel, AK 99559 | (907) 556-8393, (907) 543-8691 | (907) 556-8166; (907) 556-8810; (907) 543-7644 | m.mark@kwinhagak.org; ICWA2@AVCP.org.
Larsen Bay, Native Village of | Cassie Keplinger, Family Services Coordinator | 3449 Rezanof Drive East, Kodiak, AK 99615-6952 | (907) 486-9882 | (907) 486-4829 | Cassie.keplinger@kodiakhealthcare.org.
Lesnoi Village (see Tangirnaq aka Woody Island).
Levelock Village | Sam Wassillie, Administrator | P.O. Box 70, Levelock, AK 99625 | (907) 287-3030 | (907) 287-3032 | levelockadmin@bbna.com.
Levelock Village | Crystal Nixon-Luckhurst, Children's Services Division Manager | P.O. Box 310 1500 Kanakanak Road, Dillingham, AK 99576 | (907) 842-4139 | (907) 842-4106 | cnixon@bbna.com.
Lime Village | Jennifer John, Tribal Administrator | P.O. Box LVD—Lime Village, AK 99627.
Lime Village | Valerie Andrew, ICWA Director | P.O. Box 219, Bethel, AK 99559-0219 | (907) 543-8691 | (907) 543-7644 | ICWA2@AVCP.org.
Louden (see Galena).
Lower Kalskag (See Lower Kalskag).
Lower Kalskag, Village of | Nastasia Evan, ICWA Community Family Service Specialist | P.O. Box 27 Lower Kalskag, AK 99626-0027 | (907) 471-2412 | (907) 471-2378 | nevan@avcp.org.
Lower Kalskag, Village of | Valerie Andrew, ICWA Director | P.O. Box 219, Bethel, AK 99559 | (907) 543-8691 | (907) 543-7644 | lowerklgta@gmail.com.
Manley Hot Springs Village | Elizabeth Woods, Tribal Administrator | P.O. Box 105, Manley Hot Springs, AK 99756 | (907) 672-3177; (907) 672-3180 | (907) 672-3200 | Emwoods57@gmail.com.
Manley Hot Springs Village | Miriam A. Titus, Child Protection Program Manager; Caro Rose, ICWA Advocate | 122 First Avenue, Suite 600, Fairbanks, AK 99701-4899 | (907) 452-8251, Ext. 3659 | (907) 459-3984 | miriam.titus@tananachiefs.org; carol.rose@tananachiefs.org.
Manokotak Village | Diana Gamechuk, Caseworker ICWA | P.O. Box 169, Manokotak, AK 99628 | (907) 289-2074 | (907) 289-1235 | manokotakiccwa@bbna.com.
Manokotak Village | Crystal Nixon-Luckhurst, Children's Services Division Manager | P.O. Box 310, 1500 Kanakanak Road, Dillingham, AK 99576 | (907) 842-4139 | (907) 842-4106 | cnixon@bbna.com.
Marshall, Native Village of | Robert Pitka, ICWA Community Family Service Specialist | P.O. Box 110, Marshall, AK 99585-0110 | (907) 679-6302 | (907) 676-6187 | rpitka@avcp.org.
Marshall, Native Village of | Valerie Andrew, ICWA Director | P.O. Box 219, Bethel, AK 99559 | (907) 543-8691 | (907) 543-7644 | icwa2@avcp.org.
Mary's Igloo, Native Village of | Dolly Kugzruk, Tribal Family Coordinator | P.O. Box 629, Teller, AK 99778-0629 | (907) 642-2185 | (907) 642-3000 | dkugzruk@kawerak.org.
Mary's Igloo, Native Village of | Heather Payenna, CFS Manager | P.O. Box 948, Nome, AK 99762-0948 | (907) 443-4261 | (907) 443-4601 | hpayenna@kawerak.org.
McGrath Native Village | Gina McKindy, Tribal Administrator | P.O. Box 134 McGrath, AK 99627 | (907) 524-3023, Ext. 102 | (907) 524-3899 | Gina.mckindy@tananachiefs.org.
McGrath Native Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Mekoryuk, Native Village of | Melanie Shavings, ICWA Worker | P.O. Box 66, Mekoryuk, AK 99630 | (907) 827-8827 | (907) 827-8133 | melanie.s@mekoryuktc.org.
Mekoryuk, Native Village of | Edward Kiokun, Tribal President | P.O. Box 66, Mekoryuk, AK 99630 | (907) 827-8828 | (907) 827-8133 | Edward.k@mekoyuktc.org.
Mentasta Traditional Council | Carol Lee Evans, ICWA Coordinator | P.O. Box 6019, Mentasta Lake, AK 99780-6027 | (907) 291-2319, Ext. 9 | (907) 291-2305 | mentasta.icwa@gmail.com.
Metlakatla Indian Community | Jacqueline Wilson, Darlene Fawcett, ICWA/Social Services Department | P.O. Box 8, Metlakatla, AK 99926 | (907) 886-6914 | (907) 886-6913.
Minto, Native Village of | Lou Ann Williams, Tribal Family Youth Specialist | P.O. Box 26, Minto, AK 99758 | (907) 798-7007 | (907) 798-7008 | lou.williams@tananachiefs.org.
Minto, Native Village of | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Mountain Village: see Asa'carsarmiut.
Naknek Native Village | Judy Jo Matson, ICWA Worker | P.O. Box 210, Naknek, AK 99633-0210 | (907) 246-4210 | (907) 246-3563 | nnvc.judyjo@gmail.com.
Nanwalek, Native Village of | Katrina Berestoff, ICWA Coordinator | P.O. Box 8028, Nanwalek, AK 99603-8028 | (907) 281-2274, Ext. 108 | (907) 281-2252 | nanwalekicwa@gmail.com.
Napaimute, Native Village of | Tribal Administrator | P.O. Box 1301, Bethel, AK 99559-1301 | (907) 538-2821; (907) 548-2817 | (907) 543-7644 | napaimute@gci.net.
Napaimute, Native Village of | Valerie Andrew, ICWA Director | P.O. Box 219, Bethel, AK 99559-0219 | (907) 543-8691 | (907) 543-7644 | ICWA2@AVCP.org.
Napakiak, Native Village of | Nicole Ayagalria, ICWA Community Family Service Specialist | P.O. Box 34114/34069, Napakiak, AK 99634 | (907) 589-2815 | (907) 589-2814 | NAyagalria@avcp.org.
Napakiak, Native Village of | Valerie Andrew, ICWA Director | P.O. Box 219, Bethel, AK 99559 | (907) 543-8691 | (907) 543-7644 | ICWA2@AVCP.org.
Napaskiak, Native Village of | Elizabeth Steven, ICWA Community Family Service Specialist | P.O. Box 6009, Napaskiak, AK 99559-6009 | (907) 737-7364 | (907) 737-7039 | esteven@avcp.org.
Napaskiak, Native Village of | Valerie Andrew, ICWA Director | P.O. Box 219, Bethel, AK 99559 | (907) 543-8691 | (907) 543-7644 | ICWA2@AVCP.org.
Nelson Lagoon, Native Village of | Amanda McAdoo, ICWA Coordinator | 1131 East International Airport Road, Anchorage, AK 99518-1408 | (907) 276-2700 | (907) 222-9735 | icwa@apiai.org.
Nenana Native Association | Christine Babcock, Tribal Family Youth Specialist | P.O. Box 369, Nenana, AK 99760 | (907) 832-5461 | (907) 832-5447 | nenanatfys@gmail.com.
Nenana Native Association | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
New Koliganek Village Council | Mary Lou Nelson, Administrator | P.O. Box 5057, Koliganek, AK 99576-5057 | (907) 596-3434 | (907) 596-3462 | koliganekadmin@bbna.com.
New Koliganek Village Council | Crystal Nixon-Luckhurst, Children's Services Division Manager | P.O. Box 310, 1500 Kanakanak Road, Dillingham, AK 99576 | (907) 842-4139 | (907) 842-4106 | cnixon@bbna.com.
New Stuyahok Village | Faith Andrew, Case Worker ICWA | P.O. Box 49, New Stuyahok, AK 99636 | (907) 693-3102 | (907) 693-3179 | newstuyahokicwa@bbna.com.
New Stuyahok Village | Crystal Nixon-Luckhurst, Children's Services Division Manager | P.O. Box 310, 1500 Kanakanak Road, Dillingham, AK 99576 | (907) 842-4139 | (907) 842-4106 | cnixon@bbna.com.
Newhalen Village | Maxine Wassillie, ICWA Worker | P.O. Box 207, Newhalen, AK 99606-0207 | (907) 571-1410 | (907) 571-1537 | maxinewassillie@newhalentribal.com.
Newhalen Village | Joanne Wassillie, Administrator | P.O. Box 207, Newhalen, AK 99606-0207 | (907) 571-1317 | (907) 571-1537 | joannewassillie@newhalentribal.com.
Newtok Village | Andrew John, Tribal Administrator | P.O. Box 5596, Newtok, AK 99559-5596 | (907) 237-2202 | (907) 237-2210 | wwt10nnc@gmail.com.
Nightmute, Native Village of | Tribal Administrator; Valerie Andrew, ICWA Director | P.O. Box 90021, Nightmute, AK 99690-0021; P.O. Box 219, Bethel, AK 99559-0219 | (907) 647-6215; (907) 543-8691 | (907) 647-6112; (907) 543-7644 | ICWA2@AVCP.org.
Nikolai Village (aka Edzeno) | Balassa Alexie, Tribal Family Youth Specialist | P.O. Box 9107, Nikolai, AK, 99691 | (907) 293-2210 | (907) 293-2216 | nevc.tyfs@outlook.com.
Nikolai Village (aka Edzeno) | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Nikolski, Native Village of | Amanda McAdoo, ICWA Coordinator | 1131 East International Airport Road, Anchorage, AK 99518-1408 | (907) 276-2700 | (907) 222-9735 | icwa@apiai.org.
Ninilchik Village | Bettyann Steciw, ICWA Specialist | P.O. Box 39444, Ninilchik, AK 99639-0444 | (907) 567-3313 | (907) 567-3354 | bettyann@ninilchiktribe-nsn.gov.
Noatak, Native Village of | Edna R. Bailey, ICWA Coordinator | P.O. Box 89, Noatak, AK 99761 | (907) 485-2030 | (907) 485-2137 | icwa@nautaaq.org.
Nome Eskimo Community | Lola Stepetin, Family Services Director | 561 E. 36th Avenue Suite 102, Anchorage, Alaska 99503-4137 | (907) 339-8623 | (907) 222-2996 | lola.stepetin@necalaska.org.
Nondalton Village | William Evanoff, President | P.O. Box 49, Nondalton, AK 99640 | (907) 294-2257 | (907) 294-2271.
Noorvik Native Community | Nellie Ballot, ICWA Coordinator | P.O. Box 209, Noorvik, AK, 99763-0209 | (907) 636-2144 | (907) 636-2284 | icwa@nuurvik.org.
Northway Village | Tasha Demit, ICWA Worker | P.O. Box 516, Northway, AK 99764 | (907) 778-2311 | (907) 778-2220 | icwa@aptalaska.net.
Nuiqsut, Native Village of | Joshua Stein, Director of Social Services | P.O. Box 1232, Barrow, AK 99723-1232 | (907) 852-9374 | (907) 852-2761 | joshua.stein@arcticslope.org.
Nulato Village | Sharon Agnes, Director of Human Services | P.O. Box 65049, Nulato, AK 99765-0049 | (907) 898-2339 | (907) 898-2207 | sharon.agnes62@outlook.com.
Nunakauyarmiut Tribe (formerly Toksook Bay Native Village) | Anna Wiseman, ICWA Community Family Service Specialist | P.O. Box 37048, Toksook Bay, AK 99637 | (907) 427-7825 | (907) 427-7824 | awiseman@avcp.org.
Nunakauyarmiut Tribe (formerly Toksook Bay Native Village) | Valerie Andrew, ICWA Director | P.O. Box 219, Bethel, AK 99559 | (907) 543-8691 | (907) 543-7644 | ICWA2@AVCP.org.
Nunam Iqua, Native Village of (previously listed as Native Village of Sheldon's Point) | Darlene Pete, Tribal Administrator | P.O. Box 27, Nunam Iqua, AK 99666-0027 | (907) 498-4184 | (907) 498-4185 | nunamtribe@gmail.com.
Nunam Iqua, Native Village of (previously listed as Native Village of Sheldon's Point) | Valerie Andrew, ICWA Director | P.O. Box 219, Bethel, AK 99559 | (907) 543-8691 | (907) 543-7644 | ICWA2@AVCP.org.
Nunapitchuk, Native Village of | Stephanie Alexie-Stewart, ICWA | P.O. Box 104, Nunapitchuk, AK 99641-0104 | (907) 527-5731 | (907) 527-5740 | nunap.icwa@gmail.com.
Ohogamiut, Native Village of | Tribal Administrator | P.O. Box 49, Marshall, AK 99585 | (907) 679-6517 | (907) 679-6516 | admin@ohogtc.net.
Ohogamiut, Native Village of | Valerie Andrew, ICWA Director | P.O. Box 219, Bethel, AK 99559-0219 | (907) 543-8691 | (907) 543-7644 | ICWA2@AVCP.org.
Alutiiq Tribe of Old Harbor Village (previously listed as Native Village of Old Harbor and Village of Old Harbor) | Tamara Swenson, ICWA Advocate | P.O. Box 62, Old Harbor, AK 99643 | (907) 286-2215 | (907) 286-2350 | tswenson@alutiiqtribe.org.
Organized Village of Grayling (aka Holikachuk) | Johanna Hamilton, Tribal Family Youth Specialist | P.O. Box 49, Grayling, AK 99590 | (907) 453-5142 | (907) 453-5146 | Johanna.Hamilton@tananachiefs.org.
Organized Village of Grayling (aka Holikachuk) | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Organized Village of Kake | Nathalie Austin, Social Services Director | P.O. Box 316, Kake, AK 99830-0316 | (907) 785-6471, Ext. 116 | (907) 785-4902 | icwa@kake-nsn.gov.
Organized Village of Kasaan | Cynthia Mills, Family Caseworker II; Barbara Dude, Family Services Administrator | P.O. Box 173, Klawock, AK 99925; 320 W. Willoughby Ave., Suite 300, Juneau, AK 99801-1772 | (907) 755-2326; (907) 463-7169 | (907) 885-0032 | icwamail@ccthita-nsn.org.
Organized Village of Kwethluk | Willie David, ICWA Coordinator | P.O. Box 130, Kwethluk, AK 99621-0130 | (907) 757-6714; (907) 757-6715 | (907) 757-6328 | ovkicwa@gmail.com.
Organized Village of Saxman | Patti Green, Family Caseworker; Barbara Dude, Family Services Administrator | Route 2, Box 2, Ketchikan, AK 99901; 320 W. Willoughby Ave., Suite 300, Juneau, AK 99801-1772 | (907) 228-6984; (907) 463-7169 | (907) 885-0032 | icwamail@ccthita-nsn.org.
Orutsararmiut Traditional Native Council ak Bethel (previously listed as Orutsararmuit Native Village) | Sophie Jenkins, Social Services Director | P.O. Box 927, Bethel, AK 99559-0927 | (907) 543-2608 | (907) 543-2639 | sjenkins@nativecouncil.org.
Oscarville Traditional Village | Andrew J. Larson, Jr., ICWA Community Family Service Specialist | P.O. Box 6129, Oscarville, AK 99559 | (907) 737-7100 | (907) 737-7101 | alarson@avcp.org.
Oscarville Traditional Village | Valerie Andrew, ICWA Director | P.O. Box 6129, Oscarville, AK 99559 | (907) 543-8691 | (907) 543-7644 | ICWA2@AVCP.org.
Ouzinkie, Native Village of | Cassie Keplinger, Family Services Coordinator | 3449 Rezanof Drive East, Kodiak, AK 99615-6952 | (907) 486-9882 | (907) 486-4829 | cassie.keplinger@kodiakhealthcare.org.
Paimiut, Native Village of | Colleen Timmer, Tribal Administrator | P.O. Box 240084, Anchorage, AK 99524-0084 | (907) 561-0304 | (907) 561-0305 | paimiut@nvptc.org.
Pauloff Harbor Village | Amanda McAdoo, ICWA Coordinator | 1131 East International Airport Road, Anchorage, AK 99518-1408 | (907) 276-2700 | (907) 222-9735 | icwa@apiai.org.
Pedro Bay Village | Verna Kolyaha, Program Services | P.O. Box 47020, Pedro Bay, AK 99647-0020 | (907) 850-2341 | (907) 850-2232 | vjkolyha@pedrobay.com.
Perryville, Native Village of | Bernice O'Domin, Case Worker, ICWA | P.O. Box 97, Perryville, AK 99648 | (907) 853-2242 | (907) 853-2229 | perryvilleicwa@bbna.com.
Perryville, Native Village of | Crystal Nixon-Luckhurst, Children's Services Division Manager | P.O. Box 310, 1500 Kanakanak Road, Dillingham, AK 99576 | (907) 842-4139 | (907) 842-4106 | cnixon@bbna.com.
Petersburg Indian Association | Jeanette Ness, ICWA Caseworker | P.O. Box 1418, Petersburg, AK 99833-1418 | (907) 772-3636 | (907) 772-3637 | icwa@piatribal.org.
Pilot Point, Native Village of | Suzanne Evanoff, Administrator | P.O. Box 449, Pilot Point, AK 99649-0449 | (907) 797-2208 | (907) 797-2258 | pilotpointadmin@bbna.com.
Pilot Point, Native Village of | Crystal Nixon-Luckhurst, Children's Services Division Manager | P.O. Box 310, 1500 Kanakanak Road, Dillingham, AK 99576 | (907) 842-4139 | (907) 842-4106 | cnixon@bbna.com.
Pilot Station Traditional Village | Olga Xavier, ICWA Worker | P.O. Box 5119, Pilot Station, AK 99650-5119 | (907) 549-3550 | (907) 549-3551 | oxavier@avcp.org.
Pilot Station Traditional Village | Valerie Andrew, ICWA Director | P.O. Box 219, Bethel, AK 99559 | (907) 543-8691 | (907) 543-7644 | ICWA2@AVCP.org.
Pitka's Point, Native Village of | Vacant, ICWA Community Family Service Specialist | P.O. Box 127, St. Mary's, AK 99658 | (907) 438-2017 | (907) 438-2596.
Pitka's Point, Native Village of | Valerie Andrew, ICWA Director | P.O. Box 219, Bethel, AK 99559 | (907) 543-8691 | (907) 543-7644 | ICWA2@AVCP.org.
Platinum Traditional Village | Lou Adams, Tribal Administrator | P.O. Box 8, Platinum, AK 99651 | (907) 979-8220 | (907) 979-8178
Platinum Traditional Village | Valerie Andrew, ICWA Director | P.O. Box 219, Bethel, AK 99559 | (907) 543-7461 | (907) 543-7644 | ICWA2@AVCP.org.
Point Hope, Native Village of | Mabel Oktollik, Family/ICWA Case Worker; Qalayauq Frankson, Assistant Family/ICWA Case Worker | P.O. Box 109, Point Hope, AK 99766-0109 | (907) 368-2133 | (907) 368-2332 | family.caseworker@tikigaq.com; assistant.caseworker@tikigaq.com.
Point Lay, Native Village of | Marie H. Ahsoak, Social Services Director | P.O. Box 934, Barrow, AK 99723-0934 | (907) 852-5923 | (907) 852-5924 | social@inupiatgov.com; marie.ahsoak@inupiatgov.com.
Port Graham, Native Village of | Patrick Norman, Chief & Acting ICWA Worker | P.O. Box 5510, Port Graham, AK 99603-5510 | (907) 284-2227 | (907) 284-2222 | vivian@portgraham.org.
Port Heiden, Native Village of | Amber Christensen-Fox, Tribal Children Service Worker | 2200 James Street, Port Heiden, AK 99549 | (907) 837-2296 | (907) 837-2297 | amber@portheidenalaska.com.
Native Village Port Lions | Charlea Kewan, Family Services/ICWA | P.O. Box 69, Port Lions, AK 99550-0069 | (907) 454-2234 | (907) 454-2434 | familyservices@portlionstribe.org; administrator@portlionstribe.org.
Portage Creek Village (aka Ohgensakale) | Mary Ann Johnson, Administrator | 1762 Abbott Road, Anchorage, AK 99507-3443 | (907) 277-1105 | (907) 277-1104 | portagecreekadmin@bbna.com.
Portage Creek Village (aka Ohgensakale) | Crystal Nixon-Luckhurst, Children's Services Division Manager | P.O. Box 310, 1500 Kanakanak Road, Dillingham, AK 99576 | (907) 842-4139 | (907) 842-4106 | cnixon@bbna.com.
Qagan Tayaguyngin Tribe of Sand Point Village | Amanda McAdoo, ICWA Coordinator | 1131 East International Airport Road, Anchorage, AK 99518-1408 | (907) 276-2700 | (907) 222-9735 | icwa@apiai.org.
Qawalangin Tribe of Unalaska | Amanda McAdoo, ICWA Coordinator | 1131 East International Airport Road, Anchorage, AK 99518-1408 | (907) 276-2700 | (907) 222-9735 | icwa@apiai.org.
Qissunaimut Tribe (see Chevak Native Village).
Quinhagak (see Kwinhagak).
Rampart Village | Michelle Woods, Tribal Family Youth Specialist | P.O. Box 67029, Rampart, AK 99767 | (907) 358-3312 | (907) 358-3115 | rvc.irr@gmail.com.
Rampart Village | Miriam A. Titus, Child Protection Program Manager; Carol Rose, ICWA Advocate | 122 First Avenue, Suite 600, Fairbanks, AK 99701 | (907) 452-8251, Ext. 3659 | (907) 459-3984 | miriam.titus@tananachiefs.org; carol.rose@tananachiefs.org.
Village of Red Devil | Tribal Administrator | P.O. Box 27, Red Devil, AK 99656-0027.
Village of Red Devil | Valerie Andrew, ICWA Director | P.O. Box 219, Bethel, AK 99559-0219 | (907) 543-8691 | (907) 543-7644 | ICWA2@AVCP.org.
Ruby, Native Village of | Rachael Kangas, Tribal Family Youth Specialist | P.O. Box 117, Ruby, AK 99768 | (907) 468-4400; (907) 468-4479 | (907) 468-4500.
Ruby, Native Village of | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Russian Mission (see Iqurmuit Native Village) | Katie Nick, ICWA Worker; Valerie Andrew, ICWA Director | P.O. Box 38, Russian Mission, AK 99657; P.O. Box 219, Bethel, AK 99559 | (907) 584-5594; (907) 543-8691 | (907) 584-5596; (907) 543-7644.
Saint George, Native Village of | Amanda McAdoo, ICWA Coordinator | 1131 E. International Airport Road, Anchorage, AK 99518-1408 | (907) 276-2700 | (907) 222-9735 | icwa@apiai.org.
Saint Michael, Native Village of | Shirley Martin, Tribal Family Coordinator; Heather Payenna, CFS Manager | P.O. Box 59050, St. Michael, AK 99659-0050; P.O. Box 948, Nome, AK 99762-0948 | (907) 923-2546; (907) 443-4261 | (907) 923-2474; (907) 443-4601 | icwa@apiai.org; hpayenna@kawerak.org.
Salamatoff Tribe (previously listed as the Village of Salamatoff) | Katie Watkins, Division Director, Human & Community Services | P.O. Box 988, Kenai, AK 99611-0988 | (907) 335-7600 | (907) 202-8359 | kwatkins@kenaitze.org.
Sand Point (see Qagan Tayaguyngin Tribe of Sand Point Village).
Savoonga, Native Village of | Ruthie Okoomealingok, Tribal Family Coordinator | P.O. Box 34, Savoonga, AK 99769-0034 | (907) 984-6758 | (907) 984-6759 | rokoomealingok@kawerak.org.
Savoonga, Native Village of | Heather Payenna, CFS Manager | P.O. Box 948, Nome, AK 99762-0948 | (907) 443-4261 | (907) 443-4601 | hpayenna@kawerak.org.
Saxman (see Organized Village of Saxman).
Scammon Bay, Native Village of | Michelle Aguchak, ICWA Community Family Service Specialist | P.O. Box 110, Scammon Bay, AK 99662-0110 | (907) 558-5078 | (907) 558-5079 | makerelrea@avcp.org.
Scammon Bay, Native Village of | Valerie Andrew, ICWA Director | P.O. Box 219, Bethel, AK 99559 | (907) 543-8691 | (907) 543-7644 | ICWA2@AVCP.org.
Selawik, Native Village of | Trina L. Walton, ICWA Coordinator | P.O. Box 59, Selawik, AK 99770 | (907) 484-2165 | (907) 424-2001 | trinawalton1@gmail.com.
Selawik, Native Village of | Jackie Hill, Director | P.O. Box 256, Kotzebue, AK 99752-0256 | (907) 442-7879 | (907) 442-7885 | jackie.hill@maniilaq.org.
Seldovia Village Tribe | Shannon Custer, ICWA Representative | P.O. Drawer L, Seldovia, AK 99663 | (907) 234-7898 or (907) 435-3252 | (907) 234-7865 | scuster@svt.org.
Shageluk Native Village | Alana Notti, Tribal Family Youth Specialist | P.O. Box 109, Shageluk, AK 99665 | (907) 473-8229 | (907) 473-8275 | alana.notti@tananachiefs.org.
Shageluk Native Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Shaktoolik, Native Village of | Katelynn Evan, Tribal Family Coordinator | P.O. Box 100, Shaktoolik, AK 99771-0100 | (907) 955-2444 | (907) 955-2443 | kevan@kawerak.org.
Shaktoolik, Native Village of | Heather Payenna, CFS Manager | P.O. Box 948, Nome, AK 99762-0948 | (907) 443-4261 | (907) 443-4601 | hpayenna@kawerak.org.
Sheldon's Point (see Nunam Iqua).
Shishmaref, Native Village of | Karla Nayokpuk, Tribal Family Coordinator | P.O. Box 72110, Shishmaref, AK 99772-0110 | (907) 649-3078 | (907) 649-2278 | knayokpuk@kawerak.org.
Shishmaref, Native Village of | Heather Payenna, CFS Manager | P.O. Box 948, Nome, AK 99762-0948 | (907) 443-4261 | (907) 443-4601 | hpayenna@kawerak.org.
Shungnak, Native Village of | Glenda Douglas, Administrator | P.O. Box 64, Shungnak, AK 99773 | (907) 437-2163 | (907) 437-2183 | tribeadmin@issingnak.org; icwa@issingnak.org.
Shungnak, Native Village of | Jackie Hill, Director | P.O. Box 256, Kotzebue, AK 99752-0256 | (907) 442-7879 | (907) 442-7885 | jackie.hill@maniilaq.org.
Sitka Tribe of Alaska | Melonie Boord, Social Services Director | 456 Katlian Street, Sitka, AK 99835-7505 | (907) 747-7221 | (907) 747-7643 | melonie.boord@sitkatribe-nsn.gov.
Skagway Village | Melissa Alley, Family & Youth Service Worker | P.O. Box 1157, Skagway, AK 99840-1157 | (907) 983-4068 | (907) 983-3068 | melissa@skagwaytraditional.org.
Sleetmute, Village of | Cheryl Mellick, ICWA Community Family Service Specialist; Valerie Andrew, ICWA Director | P.O. Box 109, Sleetmute, AK 99668 | (907) 449-4259; (907) 543-8691 | (907) 449-4265; (907) 543-7644 | cmellick@avcp.org; ICWA2@AVCP.org.
Solomon, Village of | Kirsten Timbers, President | P.O. Box 2053, Nome, AK 99762-2053 | (907) 443-4985 | (907) 443-5189 | tc.sol@kawerak.org.
South Naknek Village | Lorianne Zimin, ICWA Coordinator | 2521 E. Mountain Village Dr. Ste. B PMB 388, Wasilla, AK 99654-7377 | (907) 631-3648 | (907) 631-0949.
St. George, Native Village of.
St. Mary's: see Algaaciq.
St. Mary's Igloo: see Native Village of Teller.
St. Michael, Native Village of | Shirley Martin, Tribal Family Coordinator | P.O. Box 59050, St. Michael, AK 99659-0050 | (907) 923-2546 | (907) 923-2474 | smartin@kawerak.org.
St. Michael, Native Village of | Heather Payenna, CFS Manager | P.O. Box 948, Nome, AK 99762-0948 | (907) 443-4261 | (907) 443-4601 | hpayenna@kawerak.org.
Pribilof Islands Aleut Community of Saint Paul & Saint George Islands | Charlene Naulty, Director | 2050 Venia Minor Road, P.O. Box 86 St. Paul Island, AK 99660 | (907) 546-3200 | (907) 546-3254 | icwa@aleut.com.
Stebbins Community Association | Stacey Matthias, Tribal Family Coordinator | P.O. Box 71002, Stebbins, AK 99761-0002 | (907) 934-2334 | (907) 934-2675 | smatthias@kawerak.org.
Stebbins Community Association | Heather Payenna, CFS Manager | P.O. Box 948, Nome, AK 99762-0948 | (907) 443-4261 | (907) 443-4601 | hpayenna@kawerak.org.
Stevens, Native Village of | Cheryl Mayo-Kriska, ICWA Worker; Miriam A. Titus, Child Protection Program Manager; Carol Rose, ICWA Advocate | P.O. Box 71372, Stevens Village, AK 99774; 122 First Avenue, Suite 600, Fairbanks, AK 99701-4899 | (907) 328-8599; (907) 452-8251, Ext. 3659 | (907) 452-5036; (907) 459-3984 | miriam.titus@tananachiefs.org; carol.rose@tananachiefs.org.
Village of Stony River | Alyssa Willis, ICWA Community Family Service Specialist | P.O. Box SRV, Stony River, AK 99557 | (907) 537-3258 | (907) 537-3254 | awillis@avcp.org.
Village of Stony River | Valerie Andrew, ICWA Director | P.O. Box 219, Bethel, AK 99559 | (907) 543-8691 | (907) 543-7644 | ICWA2@AVCP.org.
Sun'aq Tribe of Kodiak | Linda Resoff, Social Services Director | 312 West Marine Way, Kodiak, AK 99615-6396 | (907) 486-0620 | (907) 486-0624 | socialservices@sunaq.org.
Takotna Village | Lynn Goods, Tribal Administrator | P.O. Box 7529, Takotna, AK 99675 | (907) 298-2212 | (907) 298-2314 | TakotnaTribalCouncil@gmail.com.
Takotna Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Tanacross, Native Village of | Colleen Denny, Tribal Family Youth Specialist | P.O. Box 76009, Tanacross, AK 99776 | (907) 883-5024 | (907) 883-4497.
Tanacross, Native Village of | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Tanana, Native Village of | Donna May Folger, ICWA Manager | Box 130, Tanana, AK 99777 | (907) 366-1025; (907) 366-7170 | (907) 366-7246 | tananatyfs@gmail.com.
Tanana, Native Village of | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Tangirnaq (Lesnoi Village aka Woody Island) | Gordon Pullar, Jr., President | 3449 Rezanof Drive East, Kodiak, AK 99615-6952 | (907) 486-9872 | (907) 486-4829 | info@woodyisland.com.
Tatitlek, Native Village of | Angelique Gregorieff, Tribal Administrator Assistant | P.O. Box 171, Tatitlek, AK 99677 | (907) 325-2311 | (907) 325-2289.
Tazlina, Native Village of | Donna Renard, ICWA Worker | P.O. Box 87, Glennallen, AK 99588-0087 | (907) 822-4375 | (907) 822-5865 | asst.tazlina@cvinternet.net.
Telida Village | Edward Ticknor, Tribal Family Youth Specialist | 122 First Avenue, Suite 600, Fairbanks, AK 99701-4899 | (907) 293-2642 | (907) 293-2643.
Telida Village | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Teller, Native Village of | Dolly Kugzruk, Tribal Family Coordinator | P.O. Box 629, Teller, AK 99778-0629 | (907) 642-2185 | (907) 642-3000 | dkugzruk@kawerak.org.
Teller, Native Village of | Heather Payenna, CFS Manager | P.O. Box 948, Nome, AK 99762-0948 | (907) 443-4261 | (907) 443-4601 | hpayenna@kawerak.org.
Tetlin, Native Village of | Nettie Warbelow, Tribal Family Youth Specialist | P.O. Box 797, Tok, AK 99780 | (907) 378-3608 | (907) 883-1269 | nwarbelow@acsalaska.net.
Tetlin, Native Village of | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Tlingit & Haida Indian Tribes of Alaska (see Central Council Tlingit and Haida Indian Tribes).
Togiak, Traditional Village of | Emma Wasillie, Case Worker, ICWA | P.O. Box 310, Togiak, AK 99678-0310 | (907) 493-5431 | (907) 493-5734 | togiakicwa@bbna.com.
Togiak, Traditional Village of | Crystal Nixon-Luckhurst, Children's Services Division Manager | P.O. Box 310, 1500 Kanakanak Road, Dillingham, AK 99576 | (907) 842-4139 | (907) 842-4106 | cnixon@bbna.com.
Toksook Bay (see Nunakauyarmiut Tribe).
Tuluksak Native Community | Laura Kashatok, ICWA Community Family Service Specialist | P.O. Box 47, Tuluksak, AK 99679 | (907) 695-6902 | (907) 695-6903.
Tuluksak Native Community | Valerie Andrew, ICWA Director | P.O. Box 219, Bethel, AK 99559 | (907) 543-8691 | (907) 543-7644.
Tuntutuliak, Native Village of | Gwendolynn Charlie, ICWA Community Family Service Specialist | P.O. Box 8086, Tuntutuliak, AK 99680-8086 | (907) 256-2311 | (907) 256-2080 | Gcharlie@avcp.org.
Tuntutuliak, Native Village of | Valerie Andrew, ICWA Director | P.O. Box 219, Bethel, AK 99559 | (907) 543-8691 | (907) 543-7644 | ICWA2@AVCP.org.
Tununak, Native Village of | Adeline Lincoln, ICWA Community Family Service Specialist | P.O. Box 77, Tununak, AK 99681-0077 | (907) 652-6220 | (907) 652-6011 | ALincoln@avcp.org.
Tununak, Native Village of | Valerie Andrew, ICWA Director | P.O. Box 219, Bethel, AK 99559 | (907) 543-8691 | (907) 543-7644 | ICWA2@AVCP.org.
Twin Hills Village Council | Beverly Cano, Administrator | P.O. Box 4061, Twin Hills, AK 99576-4061 | (907) 525-4821 | (907) 525-4822 | twinhillsadmin@bbna.com.
Twin Hills Village Council | Crystal Nixon-Luckhurst, Children's Services Division Manager | P.O. Box 310, 1500 Kanakanak Road, Dillingham, AK 99576 | (907) 842-4139 | (907) 842-4106 | cnixon@bbna.com.
Tyonek, Native Village of | Arthur Standifer, Tribal Child Welfare Worker | P.O. Box 82009, Tyonek, AK 99682-0009 | (907) 583-2209 | (907) 583-2219 | tyonekicwa@gmail.com.
Ugashik Village | Steven Alvarez, Tribal Administrator | 2525 Blueberry Road, Suite 205, Anchorage, AK 99503-2647 | (907) 338-7611; (907) 338-7694 | (907) 338-7659 | manager@ugashikvillage.com.
Umkumiut Native Village | Tribal Administrator | P.O. Box 8086, Nightmute, AK 99690 | (907) 647-6145 | (907) 647-6146.
Umkumiut Native Village | Valerie Andrew, ICWA Director | P.O. Box 219, Bethel, AK 99559-0219 | (907) 543-8691 | (907) 543-7644 | ICWA2@AVCP.org.
Unalakleet, Native Village of | Angela Nashalook, ICWA Caseworker | P.O. Box 357, Unalakleet, AK 99684-0357 | (907) 624-3622 | (907) 624-5104 | tfc.unk@unkira.org.
Unalaska (see Qawalangin Tribe of Unalaska).
Unga, Native Village of | Amanda McAdoo, ICWA Coordinator | 1131 East International Airport Road, Anchorage, AK 99518-1408 | (907) 276-2700 | (907) 222-9735 | icwa@apiai.org.
Upper Kalskag Native Village (see Kalskag).
Village of Venetie | Larry Williams, Sr., ICWA Worker | P.O. Box 81080, Venetie, AK 99781 | (907) 849-8454; (907) 849-8212 | (907) 849-8216 | LarryWilliamsSenior.2016@gmail.com.
Village of Venetie | Miriam A. Titus, Child Protection Program Manager; Carol Rose, ICWA Advocate | 122 First Avenue, Suite 600, Fairbanks, AK 99701-4899 | (907) 452-8251, Ext. 3659 | (907) 459-3984 | miriam.titus@tananachiefs.org; carol.rose@tananachiefs.org.
Village of Wainwright | Joshua Stein, Director of Social Services | P.O. Box 1232, Barrow, AK 99723-1232 | (907) 852-9374 | (907) 852-2761 | joshua.stein@arcticslope.org.
Wales, Native Village of | Joanne Keyes, Tribal Family Coordinator | P.O. Box 549, Wales, AK 99783-0549 | (907) 644-2185 | (907) 644-3983 | jkeyes@kawerak.org.
Wales, Native Village of | Heather Payenna, CFS Manager | P.O. Box 948, Nome, AK 99762-0948 | (907) 443-4261 | (907) 443-4601 | hpayenna@kawerak.org.
White Mountain, Native Village of | Carol Smith, Tribal Family Coordinator | P.O. Box 84090, White Mountain, AK 99784-0090 | (907) 638-2008 | (907) 638-2009 | csmith@kawerak.org.
White Mountain, Native Village of | Heather Payenna, CFS Manager | P.O. Box 948, Nome, AK 99762-0948 | (907) 443-4261 | (907) 443-4601 | hpayenna@kawerak.org.
Woody Island (see Tangirnaq Native Village).
Wrangell Cooperative Association | Solvay Gillen, Family Caseworker; Barbara Dude, Family Services Administrator | P.O. Box 1198, Wrangell, AK 99929-1198; 320 W. Willoughby Ave., Suite 300, Juneau, AK 99801 | (907) 874-3482; (907) 463-7169 | (907) 885-0032 | icwamail@ccthita-nsn.org.
Yakutat Tlingit Tribe | Penney James, Human Services Director | P.O. Box 387, Yakutat, AK 99689-0387 | (907) 784-3368 | (907) 784-3664 | pjames@ytttribe.org.
Yupiit of Andreafski | Geraldine Beans, ICWA Director | P.O. Box 88, St. Mary's, AK 99658-0088 | (907) 438-2572 | (907) 438-2573 | andreafski.icwa@gmail.com.

2. Eastern Region

Eastern Regional Director, 545 Marriott Drive, Suite 700, Nashville, TN 37214; Phone: (615) 546-6500; Fax: (615) 564-6701.

Tribe | ICWA POC | Mailing address | Phone No. | Fax No. | Email address
Aroostook Band of Micmac Indians | Luke Joseph, ICWA Director | 7 Northern Road, Presque Isle, ME 04769 | (207) 764-1972 | (207) 764-7667 | ljoseph@micmac-nsn.gov.
Catawba Indian Nation of South Carolina | Jessica Grant, Program Manager | 996 Avenue of Nations, Rock Hill, SC 29730 | (803) 366-4792 | (803) 325-1242 | jessica.grant@catawbaindian.net.
Cayuga Nation of New York | Sharon Leroy, Executor | P.O. Box 803, Seneca Falls, NY 13148 | (315) 568-0750 | (315) 568-0752 | sharon.leroy@cayuganation-nsn.gov.
Chickahominy Indian Tribe | Martha N. Adkins, ICWA Coordinator | P.O. Box 184, King William, VA 23087 | (804) 829-2027 |  |
Chickahominy Indians-Eastern Division | Gene W. Adams, Chief | 8200 Lott Cary Road, Providence Forge, VA 23140 | (808) 966-7815 |  |
Chitimacha Tribe of Louisiana | Karen Matthews, Director of Health & Human Services | P.O. Box 640, Charenton, LA 70523 | (337) 923-7000 | (337) 923-2475 | karen@chitimacha.gov.
Coushatta Indian Tribe | Rayne Langley, Social Service Interim Director | 1984 CC Bel RD, Elton, LA 70532 | (337) 584-1433 Ext. 1437 | (337) 584-1433 | rlangley;@coushattatribela.org.
Eastern Band of Cherokee Indians | Jenny Bean, Family Safety Supervisor | P.O. Box 666, Cherokee, NC 28719 | (828) 359-6149 | (828) 359-0216 | jennbean@nc-cherokee.com.
Houlton Band of Maliseet Indians | Lori Jewell, LMSW/cc, Indian Child Welfare Director | 13-2 Clover Court, Houlton, ME 04730 | (207) 532-7260; (207) 694-0213; Cell: (207) 538—2266 | (207) 532-7287 | ljewell@maliseets.com.
Jena Band of Choctaw Indians | Mona Maxwell, Social Services Director | P.O. Box 14, Jena, LA 71342 | (318) 992-1169 | (318) 992-1192 | mmaxwell@jenachoctaw.org.
Mashantucket Pequot Tribal Nation | Valerie Burgess, Director Child Protective Services | P.O. Box 3313, Mashantucket, CT 06338 | (860) 396-2007 | (860) 396-2144 | vburgess@mptn-nsn.gov.
Miccosukee Tribe of Indians of Florida | Jennifer Prieto, Social Services Director | P.O. Box 440021, Tamiami Station, Miami, FL 33144 | (305) 223-8380 | (305) 894-5232 | jenniferp@miccosukeetribe.com.
Mississippi Band of Choctaw Indians | Jessica Martinez, ICWA Coordinator | P.O. Box 6258, Choctaw, MS 39350 | (601) 656-4507 | (601) 656-1357 | jessica.martinez@choctaw.org.
Mohegan Indian Tribe | Irene Miller, Director of Family Services | 13 Crow Hill Road, Uncasville, CT 06382 | (860) 862-6236 | (860) 862-6324 | imiller@moheganmail.com.
Monacan Indian Nation | Dean Brantham, ICWA Coordinator | P.O. Box 1136, Madison Heights, VA 24572 | (434) 946-0389 |  |
Nansemond Indian Tribe | Sam Bass, ICWA Coordinator | 1001 Pembroke Lane, Suffolk, VA 23434 |  |  | samflyingeagle@yahoo.com.
Narragansett Indian Tribe | Wenonah Harris, Director, Tribal Child Advocate | 4375B South County Trail or P.O. Box 268, Charlestown, RI 02813 | (401) 824-9034; (401) 364-1100 Ext. 233 or 203 | (401) 364-1104 | Wenonah@nithpo.com.
Oneida Indian Nation | Kim Jacobs, Nation Clerk | Box 1 Vernon, NY 13476 | (315) 829-8337 | (315) 829-8392 | kjacobs@oneida-nation.org.
Onondaga Nation | Cissy Elm, Director | 104 W. Conklin Ave., Nedrow, NY 13120 | (315) 469-9196 | (315) 469-3250 |
Pamunkey Indian Tribe | Allyn Cook-Swarts, Assistant Tribal Administrator | 1054 Pocahontas Trail, King William, VA 23086 | (804) 339-1629 | (866) 422-3387 | pamunkeytribe@pamunkey.org.
Passamaquoddy Tribe of Maine—Indian Township Reservation | Tene Downing, Child and Family Services Director | P.O. Box 301, Princeton, ME 04668 | (207) 796-6133 | (207) 796-5606 | tfdowning5@gmail.com.
Passamaquoddy Tribe—Pleasant Point | Frances LaCoute, Social Services Director | P.O. Box 343, Perry, ME 04667 | (207) 853-5111 | (207) 853-9618 | flacoute@wabanaki.com.
Penobscot Indian Nation of Maine | Michael Augustine, Director of Social Services | 1 Down Street, Indian Island, ME 04468 | (207) 817-3164 | (207) 817-3166 |
Poarch Band of Creek Indians | Synthia Kyles, ICWA Director | 5811 Jack Springs Rd., Atmore, AL 36502 | (251) 368-9136 | (251) 368-0828 | skyles@pci-nsn.gov.
Rappahannock Tribe, Inc | G. Anne Richardson, ICWA Coordinator | 5036 Indian Neck Road, Indian Neck, VA 23148 | (804) 796-0260 |  | www.rappahannocktribe.org.
Sac & Fox Tribe of the Mississippi in Iowa—Meskwaki | Mylene Wanatee, Meskwaki Family Services Director | P.O. Box 245, Tama, IA 52339 | (641) 484-4444 | (641) 484-2103 | recruiter.mfs@meskwaki-nsn.gov.
Saint Regis Mohawk Tribe | Jean Square, ICWA Coordinator | 412 State Route 37, Akwesasne, NY 13655 | (518) 358-2360 |  | Jean.square@srmt-nsn.gov.
Seminole Tribe of Florida | Shamika Beasley, Advocacy Administrator | 6363 Taft St., Ste. 300B, Hollywood, FL 33024 | (954) 965-1314 | (954) 965-1304 | shamikabeasley@semtribe.com.
Seneca Nation of Indians | Josie Raphelito, Seneca Health Care Center, Health Planner | 36 Thomas Indian School Drive, Irving, NY 14081 | (716) 532-8223, Ext. 5524 |  | josie.raphelito@senecahealth.org.
Shinnecock Indian Nation of New York | Paula Collins | P.O. Box 1268, South Hampton, NY 11969 | (631) 287-6476 |  | paulacollins@shinnecock.org.
Tonawanda Band of Seneca | Darwin Hill, Chief | Council of Chiefs, 7027 Meadville Road, Basom, NY 14013 | (716) 542-4244 | (716) 542-4008 | tonseneca@aol.com.
Tunica-Biloxi Indian Tribe of Louisiana | Evelyn Cass, ICWA Coordinator | P.O. Box 493, Marksville, LA 71351 | (318) 240-6444 | (318) 500-3011 | ecass@tunica.org.
Tuscarora Nation of New York | Chief Leo Henry, Clerk | 2006 Mount Hope Road, Lewistown, NY 14092 | (716) 601-4737 |  |
Upper Mattaponi Tribe | W. Frank Adams, ICWA Coordinator | P.O. Box 184, King William, VA 23086 | (804) 769-0041 |  |
Wampanoag Tribe of Gay Head (Aquinnah) | Cheryl Andrews-Maltis, Chairwoman; Christy Vanderhoop, Social Service Coordinator | 20 Black Brook Road, Aquinnah, MA 02539 | (508) 645-9265, Ext. 133 | (508) 645-2755 | chairwoman@wampanoagtribe.net;christy@wampanoagtribe.net.
Mashpee Wampanoag Tribe of Massasschuttes | Catherine M. Hendrix, ICWA Director | 483 Great Neck Road, South Mashpee, MA 02649 | (508) 477-0208, Ext. 144 | (774) 361-6034 | catherine.hendricks@nwtribe-nsn.gov.

3. Eastern Oklahoma Region

Eastern Oklahoma Regional Director, PO Box 8002, Muskogee, OK 74402-8002; Phone: (918) 781-4600; Fax (918) 781-4604.

Tribe | ICWA POC | Mailing address | Phone No. | Fax No. | Email address
Alabama Quassarte Tribal Town | Malinda Noon, ICW Director | P.O. Box 187, Wetumka, OK 74883 | (405) 452-3659 | (405) 452-3435 | mnoon@alabama-quassarte.org.
Cherokee Nation | Nikki Baker Limore, Director | P.O. Box 948, Tahlequah, OK 74465 | (918) 458-6900 | (918) 458-6146 | nikki-baker@cherokee.org.
The Chickasaw Nation | Michelle Price, Director Indian Child Welfare | 810 Colony Drive, Ada, Oklahoma 74820 | (580) 272-5550 | (580) 272-5553 | michelle.price@chickasaw.net.
Choctaw Nation of Oklahoma | Amanda Robinson, ICW Director | 1802 Chukka Hina Dr., Durant, OK 74701 | (580) 924-8280, Ext. 2402 | (580) 920-3197 | arobinson@choctawnation.com.
Delaware Tribe of Indians | Aimee Turner, Department of Family and Children Services | 5100 Tuxedo Blvd., Ste. C, Bartlesville, OK 74006 | (918) 337-6510 | (918) 337-6518 | aturner@delawaretribe.org.
Eastern Shawnee Tribe of Oklahoma | Sara Moore, Indian Child Welfare Director | 10100 S. Bluejacket Road, Ste. 3, Wyandotte, OK 74370 | (918) 666-7710, Ext. 1130 | (888) 971-3908 | tgibson@estoo.net.
Kialegee Tribal Town | Angie Beaver, ICW Coordinator | P.O. Box 332, Wetumka, OK 74883 | (405) 452-5388 | (405) 452-3413 | angie.beaver@kialegeetribe.net.
Miami Tribe of Oklahoma | Wanda Stovall, ICW Coordinator | P.O. Box 1326, Miami, OK 74355 | (918) 541-1359 | (918) 542-6448 | wstovall@miamination.com.
Modoc Tribe of Oklahoma | Regina Shelton & Linda Nott, Co-Administrators Division of Children and Family Services | 625 6th SE, Miami, OK 74354 | (918) 542-7890 | (918) 542-7878 | regina.shelton@modoctribe.com;linda.nott@modoctribe.com.
The Muscogee (Creek) Nation | Kimee Wind-Hummingbird, Director of Child and Family Services | P.O. Box 580, Okmulgee, OK 74447 | (918) 732-7869 | (918) 732-7854 | kwind-hummingbird@mcn-nsn.gov.
Osage Tribe | Leah Bighorse, Intake-Supervisor | 255 Senior Drive, Pawhuska, OK 74056 | (918) 287-5341 | (918) 287-5231 | lbighorse@osagenation-nsn.gov.
Ottawa Tribe of Oklahoma | Roy A. Ross, Tribal Social Services | P.O. Box 110, Miami, OK 74355 | (918) 540-1536 | (918) 542-3214 | rross.oto@gmail.com.
Peoria Tribe of Indians of Oklahoma | Tracy Coach, Indian Child Welfare Director | P.O. Box 1527, Miami, OK 74355 | (918) 540-2535, Ext. 19 | (918) 540-2538 | tcoach@peoriatribe.com.
Quapaw Tribe of Oklahoma | Mandy Dement, Family Services, ICW Director | P.O. Box 765, Quapaw, OK 74363 | (918) 238-3152 | (918) 674-2581 | mdement@quapawtribe.com.
Seminole Nation of Oklahoma | Tracy Haney, Director, Indian Child Welfare | P.O. Box 1498, Wewoka, OK 74884 | (405) 257-9038 | (405) 257-9036 | haney.t@sno-nsn.gov.
Seneca-Cayuga Tribe of Oklahoma | Mark Westfall, ICW Director | 23701 South 655 Road, Grove, OK 74344 | (918) 516-3508; (918) 533-8377 | (918) 516-0248 | mwestfall@sctribe.com.
Thlopthlocco Tribal Town | Yvonda Fixico, Acting ICWA Director | P.O. Box 188, Okemah, OK 74859-0188 | (918) 560-6121 | (918) 623-3023 | yfixaco@tttown.org.
United Keetoowah Band of Cherokee Indians in Oklahoma | Raven Owl, ICW Director | P.O. Box 746, Tahlequah, OK 74465 | (918) 871-2800 | (918) 871-2834 | icwainquiries@ukb-nsn.gov.
Wyandotte Nation | Tara Gragg, Social Worker | 64700 E. Hwy 60, Wyandotte, OK 74370 | (918) 678-6355 | (918) 678-3087 | tgragg@wyandotte-nation.org.

4. Great Plains Region

Great Plains Regional Director, 115 4th Avenue SE, Aberdeen, SD 57401; Phone: (605) 226-7343; Fax: (605) 226-7446

Tribe | ICWA POC | Mailing address | Phone No. | Fax No. | Email address
Cheyenne River Sioux Tribe | Diane Garreau, ICWA Director | P.O. Box 590, Eagle Butte, SD 57625 | (605) 964-6460; (605) 964-6462 | (605) 964-6463 | Dgarreau61@hotmail.com.
Crow Creek River Sioux Tribe | Marlo Medicine Crow, Jr., ICWA Specialist | P.O. Box 130, Fort Thompson, SD 57339 | (605) 245-2581 | (605) 245-2401 | icwaccst@gmail.com.
Flandreau Santee Sioux Tribe | Jessica Morson, ICWA Director | P.O. Box 283, Flandreau, SD 57028 | (605) 997-5055 | (605) 997-3694 | jessica.morson@fsst.org.
Lower Brule Sioux Tribe | Jera Brouse, Designated ICWA Agent | 187 Oyate Circle, Lower Brule, SD 57548 | (605) 473-5561 | (605) 473-1019 | jerabrouse@lowerbrule.net.
Oglala Sioux Tribe | Paul Forney, ICWA Specialist | P.O. Box 604, Pine Ridge, SD 57770 | (605) 867-5752 | (605) 867-5941 | paul.forney@oglala.com.
Omaha Tribe of Nebraska | Mosiah Harlan, ICWA Director; Kash Echtenkamp, ICWA Specialist | P.O. Box 500, Macy, NE 68039 | (402) 837-5331, Ext. 305 | (402) 837-5362 | mosiah.harlan@omahatribe.com;kash.echtenkamp@omahatribe.com.
Ponca Tribe of Nebraska | Lynn Schultz, ICWA Specialist | 1800 Syracuse Avenue, Norfolk, NE 68701 | (402) 371-8834, Ext. 123 | (402) 371-7564 | lschultz@poncatribe-ne.org.
Rosebud Sioux Tribe | Shirley J. Bad Wound, ICWA Specialist | P.O. Box 609, Mission, SD 57555 | (605) 856-5270 | (605) 856-5268 | rsticwa9@gwtc.net.
Santee Sioux Nation | Karen RedOwl, ICWA Specialist | RR 302, Box 5191, Niobrara, NE 68760 | (402) 857-2342 | (402) 857-2361 | karen.redowl@nebraska.gov.
Sisseton-Wahpeton Sioux Tribe | Evelyn Pilcher, ICWA Specialist | P.O. Box 509, Agency Village, SD 57262 | (605) 698-3992 | (605) 698-3999 | evelyn.pilcher@state.sd.us.
Spirit Lake Sioux Tribe | Marie Martin, ICWA Coordinator | P.O. Box 356, Fort Totten, ND 58335 | (701) 766-4855 | (701) 766-4856 | slticwa-dir@gondtc.com.
Standing Rock Sioux Tribe | Rebecca Graybull, ICWA Coordinator | P.O. Box 770, Fort Yates, ND 58538 | (701) 854-3095 | (701) 854-5575 | rgraybull@standingrock.org.
Three Affiliated Tribes (Mandan, Arikara & Hidatsa) | Vincent Roehr, ICWA Specialist; Krystal Hartman, ICWA Clerk | 404 Frontage Drive, New Town, ND 58763 | (701) 627-8198 | (701) 627-4225 | vroehn@mhanation.com; khartman@mhanation.com.
Turtle Mountain Band of Chippewa Indians | Marilyn Poitra, ICWA Coordinator | P.O. Box 900, Belcourt, ND 58316 | (701) 477-5688 | (701) 477-5797 | marilynp@tmcwfs.net.
Winnebago Tribe of Nebraska | Elexa Mollet, ICWA Worker | P.O. Box 723, Winnebago, NE 68071 | (402) 878-2379, Ext. 115 | (402) 878-2228 | elexa.mollet@winnebagotribe.com.
Yankton Sioux Tribe of South Dakota | Melissa Sanchez, ICWA Director | P.O. Box 1153, Wagner, SD 57380 | (605) 384-5712; Alt. (605) 384-4500 | (605) 384-5014 | yst_icwa@outlook.com.

5. Midwest Region

Midwest Regional Director, 5600 West American Blvd., Suite 500, Norman Pointe II Building, Bloomington, MN 55437; Phone: (612) 725-4500; Fax: (612) 713-4401.

Tribe | ICWA POC | Mailing address | Phone No. | Fax No. | Email address
Bad River Band of the Lake Superior | Gina Secord, Abinoojiyag Resource Center Program Manager | P.O. Box 55, Odanah, WI 54861 | (715) 682-7135, Ext. 3 | (715) 682-7887 | ARCMgr@badriver-nsn.gov.
Bay Mills Indian Community | Phyllis Kinney, Tribal Court Administrator | 12449 West Lakeshore Drive, Brimley, MI 49715 | (906) 248-3241 | (906) 248-8811 | phyllisk@baymills.org.
Bois Forte Reservation Business Committee | Angela Wright, Indian Child Welfare Supervisor | 13071 Nett Lake Road, Suite A, Nett Lake, MN 55771 | (218) 757-3295 | (218) 757-3335 | amwright@boisforte-nsn.gov.
Fond du Lac Reservation Business Committee | Kevin Dupuis, Chairman | 1720 Big Lake Road, Cloquet, MN 55720 | (218) 879-4593 | (218) 879-4146 | kevindupuis@fdlrez.com.
Forest County Potawatomi | Maline Enders, Indian Child Welfare Supervisor | 5415 Everybody's Road, Crandon, WI 54520 | (715) 478-4812 | (715) 478-7442 | maline.enders@fcpotawatomi-nsn.gov; icwmain@fcpotawatomi-nsn.gov.
Grand Portage Reservation Business Center | ICWA Representative, Human Service Director | P.O. Box 428, Grand Portage, MN 55605 | (218) 475-2453 | (218) 475-2455 |
Grand Traverse Band of Ottawa and Chippewa Indians | Helen Cook, Anishinaabek Family Services Supervisor | 2605 N. West Bayshore Drive, Peshawbestown, MI 49682-9275 | (231) 534-7681 | (231) 534-7706 | helen.cook@gtbindians.com.
Hannahville Indian Community | Wendy Lanaville, ICWA Worker | N15019 Hannahville B1 Road, Wilson, MI 49896 | (906) 723-2512 | (906) 466-7397 | wendy.lanaville@hichealth.org.
Ho-Chunk Nation | Valerie Blackdeer, CFS Director | P.O. Box 40, Black River Falls, WI 54615 | (715) 284-2622 | (715) 284-9486 | valerie.blackdeer@ho-chunk.com.
Keweenaw Bay Indian Community | Caitlin Bowers, Director | 16429 Bear Town Road, Baraga, MI 49908 | (906) 353-4201 | (906) 353-8171 | cbowers@kbic-nsn.gov.
Lac Courte Oreilles Band of Lake Superior Chippewa Indian of Wisconsin | Lisa Stark, Assistant Indian Child Welfare Director | 13394 W. Trepania Road, Hayward, WI 54843 | (715) 558-7473 | (715) 634-2981 | lisa.stark@lco-nsn.gov.
Lac du Flambeau Band of Lake Superior Chippewa Indians | Kristin Allen, ICW Director | P.O. Box 216, Lac du Flambeau, WI 54538 | (715) 588-4275 | (715) 588-3855 | ldficw@ldftribe.com.
Lac Vieux Desert Band of Lake Superior Chippewa | Dee Dee McGeschick, Social Services Director | P.O. Box 249, Watersmeet, MI 49969 | (906) 358-4940 | (906) 358-9920 | dee.mcgeshick@lvdtribal.com.
Leech Lake Band of Ojibwe | Earl Robinson, Human Services Division Director | 190 Sailstar Drive NE, Cass Lake, MN 56633, P.O. Box 967, Cass Lake, MN 56633 | (218) 335-8270 | (218) 335-3768 | earl.robinson@llojibwe.org.
Little River Band of Ottawa Indians | Shayne Machen, Prosecutor | 3031 Domres Road, Manistee, MI 49660 | (231) 398-3384 | (231) 398-3387 | shayne_machen@lrboi-nsn.gov.
Little Traverse Bay Band of Odawa Indians | Heather Boening, Human Services Director | 7500 Odawa Circle, Harbor Springs, MI 49740 | (231) 242-1620; (231) 242-1400 | (231) 242-1635 | hboening@ltbbodawa-nsn.gov.
Lower Sioux Indian Community of Minnesota | Lisa Jones, Director | 39458 Reservation Highway 1, Morton, MN 56270 | (507) 697-8683 | (507) 697-6198 | lisa.jones@lowersioux.com.
Match-E-Be-Nash-She-Wish Band of Potawatomi Indians of Michigan (Gun Lake Tribe) | Dominique Ambriz, ICWA Representative | 2880 Mission Dr., Shelbyville, MI 49344 | (269) 397-1760 | (269) 397-1763 | Dominique.Ambriz@hhs.glt-nsn.gov.
Menominee Indian Tribe of Wisconsin | Carol Corn, Director of Social Services | P.O. Box 520, Keshena, WI 54135 | (715) 799-5161 | (715) 799-6061 | ccorn@mitw.org.
Mille Lacs Band of Ojibwe | Mishelle Ballinger, Administrative Case Aid—Intake—Family Services | 101 Pony Farm Road, Onamia, MN 56359 | (320) 532-7766 | (320) 532-4569 | mishelle.ballinger@hhs.millelacsband-nsn.gov.
Minnesota Chippewa Tribe of Minnesota Includes Six Component Reservations: Bois Forte Band, Fond Du Lac band; Grand Portage Band; Leech Lake Band; Mille Lacs Band; White Earth Band | George Goggleye, Human Services Director | P.O. Box 217, Cass Lake, MN 56633 | (218) 335-8586 | (218) 335-8080 | ggoggleye@mnchippewatribe.org.
Nottawaseppi Huron Band of the Potawatomi | Meg Fairchild, Social Services Manager | 1485 Mno Bmadzewen Way, Fulton, MI 49052 | (269) 704-8341 | (269) 729-5920 | nfairchild@nhbp.org.
Oneida Nation | ICWA Director, ICW Supervisor | P.O. Box 365, Oneida, WI 54155 | (920) 490-3700, Ext. 3; (920) 490-3821 | (920) 490-3820 | icw@oneidanation.org.
Pokagon Band of Potawatomi | Mark Pompey, Social Services Director | 58620 Sink Road, Dowagiac, MI 49047 | (269) 462-4277 | (269) 782-4295 | mark.pompey@pokagonband-nsn.gov.
Prairie Island Indian Community Mdewakanton Dakota Sioux of Minnesota | Patricia Aw-Yang, Enrollment Office | 5636 Sturgeon Lake Rd., Welch, MN 55089 | (651) 385-4126 | (651) 385-4180 | Patricia.Aw-Yang@piic.org.
Red Cliff Band of Lake Superior Chippewa Indians of Wisconsin | Gretchen Morris, Indian Child Welfare Director | 37820 Community Rd., Bayfield, WI 54814 | (715) 779-3785 | (715) 779-3783 | gretchen.morris@redcliff-nsn.gov.
Red Lake Band of Chippewa Indians | ICWA Representative | P.O. Box 427, Red Lake, MN 56671 | (218) 679-1211 |  | icwa@redlakenation.org.
Sac & Fox Tribe of the Mississippi in Iowa | Mylene Wanatee, Family Services Director | P.O. Box 245, Tama, IA 52339 | (641) 484-4444 | (641) 484-2103 | recruiter.mfs@meskwaki-nsn.gov.
Saginaw Chippewa Tribe of Michigan | Angela Gonzalez, ICWA & Licensing Supervisor | 7070 East Broadway Road, Mt. Pleasant, MI 48858 | (989) 775-4901 | (989) 775-4912 | agonzalez@sagchip.org.
Sault Ste. Marie Tribe of Chippewa Indians of Michigan | Melissa Van Luven, ICWA Program Director | 2218 Shunk Rd, Sault Ste. Marie, MI 49783 | (906) 632-5250 | (906) 632-5266 | ICWA-MIPFA-Contacts@saulttribe.net.
Shakopee Mdewakanton Sioux Community | Tribal Records, ICWA Contact | 2330 Sioux Trail NW, Prior Lake, MN 55372 | (952) 496-6101 |  | tribalrecords@shakopeedakota.org.
Sokaogon Chippewa Community of Wisconsin | Nick Vanzile, Director Indian Child Welfare | 10808 Sokaogon Drive, Crandon, WI 54520 | (715) 478-6437 | (715) 478-0692 | nick.vanzile@scc-nsn.gov.
St. Croix Chippewa Indians of Wisconsin | Elizabeth Lowe, Indian Child Welfare Director | 4404 State Rd. 70, Webster, WI 54893 | (715) 349-8554, Ext. 5264; (715) 349-2671 | (715) 349-8665 | elizabethl@stcroixtribalcenter.com.
Stockbridge-Munsee Community of Wisconsin | Teresa Juga, ICWA Manager | W12802 County A, Bowler, WI 54416 | (715) 793-4580 | (715) 793-1312 | teresa.juga@mohican.com.
Upper Sioux Community of Minnesota | Kathleen Preuss, Indian Child Welfare Director | P.O. Box 147, 5744 Hwy. 67, Granite Falls, MN 56241 | (320) 564-6318 | (320) 564-2550 | kathleenp@uppersiouxcommunity-nsn.gov.
White Earth Reservation Business Committee | Laurie York, Program Director | P.O. Box 358, White Earth, MN 56591 | (218) 983-4647 | (218) 983-3712 | laurie.york@whiteearth-nsn.gov.

6. Navajo Region

Navajo Regional Director, Navajo Regional Office, P.O. Box 1060, Gallup, NM 87305; Phone: (505) 863-8314; Fax: (505) 863-8324.

Tribe | ICWA POC | Mailing address | Phone No. | Fax No. | Email address
Navajo Nation | Regina Yazzie, MSW, Director, Navajo Children and Family Services (ICWA) | P.O. Box 1930, Window Rock, AZ 86515 | (928) 871-6806 | (928) 871-7667 | regina;yazzie@navajo-nsn.gov.

7. Northwest Region

Northwest Regional Director, 911 NE 11th Avenue, Portland, OR 97232; Phone: (503) 231-6702; Fax (503) 231-2201.

Tribe | ICWA POC | Mailing address | Phone No. | Fax No. | Email address
Burns Paiute Tribe | Michelle Bradach, Social Service Director | 100 Pasigo Street, Burns, OR 97720 | (541) 573-8043 | (541) 573-4217 | michelle.bradach@burnspaiute-nsn.gov.
Coeur d'Alene Tribe | Charles Henry, ICW Program Manager | P.O. Box 408, Plummer, ID 83851 | (208) 686-2071 | (208) 686-2059 | chenry@cdatribe-nsn.gov.
Confederated Salish & Kootenai Tribes | Lena Tewawina, ICW Caseworker | P.O. Box 278, Pablo, MT 59821 | (406) 675-2700 Ext. 1087 |  | lena.tewawina@cskt.org.
Confederated Tribes and Bands of the Yakama Nation | Jessica Rammelsberg, Assistant Prosecutor | P.O. Box 151, Toppenish, WA 98948 | (509) 865-5121 Ext. 4558 | (509) 865-8936 | Jessica_rammelsberg@yakama.com.
Confederated Tribes of Coos, Lower Umpqua & Siuslaw Indians | Shayne Platz, Lead Case Manager/ICWA; Earl Boots, Family Services Director | 135 Silver Lane Suite 200, Eugene, OR 97404; 1245 Fulton Ave, Coos Bay, OR 97420 | (541) 744-1334; (541) 888-7516 |  | splatz@ctclusi.org; eboots@ctclusi.org.
Confederated Tribes of Siletz Indians | Arthur Fisher, Staff Attorney | P.O. Box 549, Siletz, OR 97380 | (541) 444-8324 | (541) 444-2307 | arthurf@ctsi.nsn.us.
Confederated Tribes of the Chehalis Reservation | Jose Caywood, Director of Social Services | P.O. Box 536, Oakville, WA 98568 | (360) 709-1777 | (360) 273-5207 | jcaywood@chehalistribe.org.
Confederated Tribes of the Colville | Preston Boyd, CFS Manager | P.O. Box 150, Nespelem, WA99155-011 | (509) 634-2774 | (509) 634-2633 | preston.boyd@colvilletribes.com.
Confederated Tribes of the Grande Ronde Community of Oregon | Donna Johnson, ICWA Intake | 9615 Grand Ronde Road, Grand Ronde, OR 97347-0038 | (503) 879-4529 | (503) 879-2142 | donna.johnson@grandronde.org.
Confederated Tribes of the Umatilla Indian Reservation | Brent Leonhard, Attorney | 46411 Timine Way, Pendleton, OR 97801 | (541) 429-7406 | (541) 429-7402 | brentleonhard@ctuir.org.
Confederated Tribes of Warm Springs Reservation | Lisa Lomas, Chief Judge | P.O. Box 850, Warm Springs, OR 97761 | (541) 553-3278 | (541) 553-3281 | lisa.lomas@wstribes.org.
Coquille Indian Tribe | Roni Jackson, ICWA Caseworker | P.O. Box 3190, Coos Bay, OR 97420 | (541) 888-9494 | (541) 888-0673 | ronijackson@coquilletribe.org.
Cow Creek Band of Umpqua Tribe of Indians | Michele Moore, Human Services Director | 2371 NE Stephens Street, Roseburg, OR 97470 | (541) 677-5575 | (541) 677-5565 | mmoore@cowcreek.com.
Cowlitz Indian Tribe | Mike Yates, ICWA Caseworker | P.O. Box 2547, Longview, WA 98632-8594 | (360) 355-2835 | (360) 577-7432 | myates.health@cowlitz.org.
Hoh Indian Tribe | Lola Moses, Family Services Manager | P.O. Box 2196, Forks, WA 98331 | (360) 780-0610 | (360) 374-5426 | lola.moses@hohtribe-nsn.org.
Jamestown S'Klallam Tribe | Loni Greninger, ICW Supervisor | 1033 Old Blyn Hwy, Sequim, WA 98382 | (360) 681-4660 | (360) 681-3402 | lgreninger@jamestowntribe.org.
Kalispel Tribe of Indians | Wendy Thomas, Social Services Director | 934 S Garfield Road, Airway Heights, WA 99001 | (509) 789-7630 | (509) 789-7675 | wthomas@camashealth.com.
Klamath Tribes | Candi Uses Arrow, CFS Manager | P.O. Box 436, Chiloquin, OR 97624 | (541) 783-2219 | (541) 783-7783 | candi.usesarrow@klamathtribes.com.
Kootenai Tribe of Idaho | Jennifer Porter, Tribal Council | P.O. Box 1269, Bonners Ferry, ID 83805 | (208) 267-3519 Ext. 549 | (208) 267-2960 | jennifer@kootenai.org.
Lower Elwha Tribal Community Council | Rebecca Sampson-Weed, ICW Program Manager | 3080 Lower Elwha Road, Port Angeles, WA 98363 | (360) 461-7033 | (866) 277-3141 | becca.weed@elwha.org.
Lummi Nation | Kym Goes Behind, ICWA Supervisor | P.O. Box 1024, Ferndale, WA 98248 | (360) 384-2324 | (360) 384-2341 | kymg@lummi-nsn.gov.
Makah Indian Tribal Council | Michelle Claplanhoo, ICW Caseworker; Vickie Carlson, Social Services Manager | P.O. Box 115, Neah Bay, WA 98357 | (360) 645-3044; (360) 645-3521 | (360) 645-2806 | michelle.claplanhoo@makah.com; vickie.carlson@makah.com.
Metlakatla | Jacqueline Wilson, ICW Caseworker | P.O. Box 8, Metlakatla, AK 99926 | (907) 886-6914 | (907) 886-6913 | jwilsonm4@outlook.com.
Muckleshoot | Alexandra Cruz-James, Acting Director of Human Services | 39015 172nd Ave SE, Auburn, WA 98092 | (253) 876-3261 | (253) 876-3095 | alex.cruz@muckleshoot.nsn.us.
Nez Perce Tribe | Joni Williams, ICW Director | P.O. Box 365, Lapwai, ID 83540 | (208) 621-4709 | (208) 843-9401 | joniw@nezperce.org.
Nisqually Indian Community | Lorraine Van Brunt, Child & Family Services Manager | 4820 She-Nah-Num Drive SE, Olympia, WA 98513 | (360) 456-5221 | (360) 486-9555 | Vanbrunt.lorraine@nisqually-nsn.gov.
Nooksack Indian Tribe of Washington | Katrice Rodriguez, Youth & Family Services Director | 5061 Deming Road, Deming, WA 98244 | (360) 306-5090 | (360) 306-5099 | krodriguez@nooksack-nsn.gov.
Northwestern Band of Shoshone Nation | Patty Timbimboo-Madsen, ICWA Manager | 707 North Main, Brigham City, UT 84302 | (435) 734-2286, Ext. 7077 | (435) 723-6320 | ptimbimboo@nwbshoshone.com.
Port Gamble Indian Community | Cheryl Miller, Children and Family Services Director | 31912 Little Boston Road NE, Kingston, WA 98346 | (360) 287-9665 | (360) 297-9666 | cmiller@pgst.nsn.us.
Puyallup Tribe | Sandra Cooper, ICW Tribal/State Liaison | 3009 E. Portland Avenue, Tacoma, WA 98404 | (253) 405-7544 | (253) 680-5998 | sandra.cooper@puyalluptribe-nsn.gov.
Quileute Tribal Council | Nicole Earls, Human Services Director; Charlene Meneely, ICW Program Manager | P.O. Box 279, LaPush, WA 98350 | (360) 374-4306; (360) 640-2428 | (360) 640-8795 | nicole.earls@quileutetribe.com; charlene.meneely@quileutetribe.com.
Quinault Indian Nation | Amelia DeLaCruz, Social Services Manager | P.O. Box 189, Taholah, WA 98587 | (360) 276-8215 | (360) 276-4152 | amelia.delacruz@quinault.org.
Samish Indian Nation | Danielle Stock, Family Services Specialist; Ana Cortez, Family Services Specialist | 1809 Commerical Ave, Anacortes, WA 98221 | (360) 298-6431; (360) 298-5815 |  | dstock@samishtribe.nsn.us; acortez@samishtribe.nsn.us.
Sauk-Suiattle Indian Tribe of Washington | Donna Furchert, ICW Director | 5318 Chief Brown Lane, Darrington, WA 98241 | (360) 436-0598 | (360) 436-1533 | dfurchert@sauk-suiattle.com.
Shoalwater Bay Tribal Council | Kathirine Horne, Director, Social Services Director | P.O. Box 130, Tokeland, WA 98590 | (360) 267-8134 | (360) 267-0247 | khorne@shoalwaterbay-nsn.gov.
Shoshone Bannock Tribes of the Fort Hall Reservation | Brandelle Whitworth, General Counsel | P.O. Box 306, Ft. Hall, ID 83203 | (208) 478-3923 | (208) 237-9736 | bwhitworth@sbtribes.com.
Skokomish Tribe | Theron Dixon, ICW Supervisor | 100 N. Tribal Center Road, Skokomish, WA 98584 | (360) 426-5755 Ext. 2111 | (360) 877-2399 | tdixon@skokomish.org.
Snoqualmie Tribe | Carlee Gorman, SICW Program Manager | P.O. Box 969, Snoqualmie, WA 98065 | (425) 888-6551 Ext. 6232 | (425) 689-1272 | carlee@snoqualmietribe.us.
Spokane Tribe of Indians | Ricki Peone, HHS Director; Tawhnee Colvin, Assistant HHS Director | P.O. Box 540, Wellpinit, WA 99040 | (509) 258-7502 Ext. 32; (509) 258-7502 | (509) 258-7029 | ricki.peone@spokanetribe.com; tawhneec@spokanetribe.com.
Squaxin Island | Adirian Emery, ICWA Lead Social Worker | 10 SE Squaxin Lane, Shelton, WA 98584-9200 | (360) 432-3885 | (360) 427-2652 | aemery@squaxin.us.
Stillaguamish Tribe of Washington | Candy Hamilton, ICW Director | P.O. Box 3782, Arlington, WA 98223 | (360) 572-3460 | (360) 925-2862 | icw@stillaguamish.com.
Suquamish Tribe of the Port Madison Reservation | Tara Reynon, ICWA Director | P.O. Box 498, Suquamish, WA 98392 | (360) 394-8479 | (360) 697-6774 | treynon@suquamish.nsn.us.
Swinomish Indians Tribal Community | Tracey Parker, Swinomish Family Services Coordinator | 17337 Reservation Rd, LaConner, WA 98257 | (360) 466-7222 | (360) 466-1632 | tparker@swinomish.nsn.us.
Tulalip Tribe | Roberta Hillaire, beda?chelh Manager; Jennifer Walls, CPS Lead | 2828 Mission Hill Road, Tulalip, WA 98271 | (360) 716-4068; (360) 716-4061 | (360) 716-0750 | rhillaire@tulaliptribes-nsn.gov;jwalls@tulaliptribes-nsn.gov.
Upper Skagit Indian Tribe of Washington | Felice Keegahn, Indian Child Welfare Coordinator | 25944 Community Plaza Way, Sedro Woolley, WA 98284 | (360) 854-7077 | (360) 854-7125 | felicek@upperskagit.com.

8. Pacific Region

Pacific Regional Director, BIA, Federal Building, 2800 Cottage Way, Room W-2820, Sacramento, CA 95825; Phone: (916) 978-6000; Fax: (916) 978-6099.

Agua Caliente Band of Cahuilla Indians of the Agua Caliente Indian Reservation | Jeff Grubbe, Chairman | 5401 Dinah Shore Drive, Palm Springs, CA 92264 | (760) 699-6800 | (760) 699-6919
Augustine Band of Cahuilla Indians | Amanda Vance, Chairperson | P.O. Box 846, Coachella, CA 92236 | (760) 398-4722 | (760) 398-4252
Alturas Indian Rancheria | Phillip Del Rosa | P.O. Box 340, Alturas, CA 96101 | (530) 233-5571 | (530) 233-4165 | air530@yahoo.com.
Capitan Grande Band of Diegueno Mission Indians of California (Barona Group of Capitan Grande Band of Mission Indians of the Barona Reservation) | Indian Child Social Services Director | 4058 Willow Rd., Alpine, CA 91903 | (619) 445-1188 | (619) 445-0765
Bear River Band of the Rohnerville Rancheria | Barry Brenard, Chairman | 266 Keisner Rd., Loleta, CA 95551 | (707) 773-1900 | (707) 733-1972 | dakotamcginnis@brb-nsn.gov.
Berry Creek Rancheria of Maidu Indians | Maria Ramirez, ICWA Director & Tribal Representative | 5 Tyme Way, Oroville, CA 95966 | (530) 534-3859 | (530) 534-0343 | mramirez@berrycreekrancheria.com.
Big Lagoon Rancheria | Virgil Moorehead, Chairperson | P.O. Box 3060, Trinidad, CA 95570 | (707) 826-2079 | (707) 826-0495 | vmoorehead@earthlink.net.
Big Pine Paiute Tribe of the Owens Valley | Jill Paydon, Tribal Administrator/ICWA Representative | P.O. Box 700, Big Pine, CA 93513; 825 S. Main St., Big Pine, CA 93513 | (760) 938-2003 | (760) 938-2942 | j.paydon@bigpinepaiute.org.
Big Sandy Rancheria of Western Mono Indians of California | Regina Riley, Tribal Council Secretary | P.O. Box 337, Auberry, CA 93602 | (559) 374-0066 | (559) 374-0055 | GRiley@bsrnation.com.
Big Valley of Pomo Indians of the Big Valley Rancheria |  | 2726 Mission Rancheria Road, Lakeport, CA 95453 | (707) 263-3924 | (707) 263-3977 | resparza@big-valley.net.
Bishop Paiute Tribe | Gertrude Brown, ICWA Specialist | 50 TuSu Lane, Bishop, CA 93514 | (760) 873-7799 | (760) 873-3529 | gretrude.brown@bishoppaiute.org.
Blue Lake Rancheria | Claudia Brundin, Chairperson | P.O. Box 428, Blue Lake, CA 95525 | (707) 668-5101 | (707) 668-4272 | ahuff@bluelakerancheria-nsn.gov.
Bridgeport Indian Colony | John Glazier, Chairperson | P.O. Box 37, Bridgeport, CA 93517 | (760) 932-7083 | (760) 932-7846 | chair@bridgeportindiancolony.com.
Buena Vista Rancheria of Me-Wuk Indians | Rhonda Morningstar Pope, Chairperson | 1418 20th Street, Suite 200, Sacramento, CA 95811 | (916) 491-0011 | (916) 491-0012 | info@BuenaVistaTribe.com.
Cabazon Band of Mission Indians | Doug Welmas, Chairman | 84-245 Indio Springs Parkway, Indio, CA 92201 | (760) 342-2593 | (760) 347-7880 | nmarkwardt@cabazonindians-nsn.gov.
Cachil DeHe Band of Wintun Indians of the Colusa Indian Community of the Colusa Rancheria | Yvonne Page, Counselor | 3730 Highway 45, Colusa, CA 95932 | (530) 458-6571 | (530) 458-8061 | ypage@colusa-nsn.gov.
Cahuilla Band of Mission Indians | Lisa Mariano, Tribal Social Worker | 52701 Hwy 371, Anza, CA 92539 | (951) 763-5549 | (951) 763-2808 | Socialworker@cahuilla.net.
California Valley Miwok Tribe *
Campo Band of Diegueno Mission Indians of the Campo Indian Reservation | Indian Child Social Services Director | 4058 Willow Rd., Alpine, CA 91903 | (619) 445-1188 | (619) 445-0765
Cedarville Rancheria | Richard Lash, Chairperson | 300 West 1st Street, Alturas, CA 96101 | (530) 233-3969 | (530) 233-4776 | melissa@stewartspoint.org.
Cher-Ae Heights Indian Community of the Trinidad Rancheria | Amy Atkins, Executive Manager | P.O. Box 630, Trinidad, CA 95570 | (707) 677-0211 | (707) 677-3921 | aatkins@trinidadrancheria.com.
Chicken Ranch Rancheria of Me-wuk Indians of California | Lloyd Mathiesen, Chairman | P.O. Box 1159, 9195 Jamestown, CA 95327 | (209) 984-9066 | (209) 984-5606 | chixrnch@mlode.com.
Cloverdale Rancheria of Pomo Indians of California | Patricia Hermosillo, Chairperson | 555 S. Cloverdale Blvd., Cloverdale, CA 95425 | (707) 894-5775 | (707) 894-5727
Cold Springs Rancheria of Mono Indians of California | Jeffery Lee, Chairman | P.O. Box 209, Tollhouse, CA 93667 | (559) 855-5043 | (559) 855-4445
Kletsel Dehe Band of Wintun Indians (Cortina Indian Rancheria) | Charlie Wright, Tribal Chairman | P.O. Box 1630, Williams, CA 95987 | (530) 473-3274 | (530) 473-3301 | cww281@gmail.com.
Coyote Valley Band of Pomo Indians | Michael Hunter, Chairman | 7601 North State St., Redwood Valley, CA 95470 | (707) 485-8723 | (707) 485-1247 | tribalgovernment@coyotevalley-nsn.gov.
Dry Creek Rancheria Band of Pomo Indians | Chris Wright, Chairman | P.O. Box 607, Geyserville, CA 96441 | (707) 431-4090 | (707) 857-3794 | chrisw@drycreekrancheria.com.
Elem Indian Colony | Agustin Garcia, Chairman | P.O. Box 757, Lower Lake, CA 95457 | (707) 994-3400 | (707) 994-3408 | a.garcia@elemindiancolony.org.
Elk Valley Rancheria | Dale Miller, Chairman | 2332 Howland Hill Rd, Crescent City, CA 95531 | (707) 464-4680 | (707) 464-4519 | swoods@elk-valley.com.
Enterprise Rancheria of Maidu Indians | Glenda Nelson, Chairwoman | 2133 Montevista Ave, Oroville, CA 95966 | (530) 532-9214 | (530) 532-1768 | info@enterpriserancheria.org.
Ewiiaapaayp (Cuyapaipe) Band of Kumeyaay Indians | Robert Pinto, Sr., Chairman | 4050 Willow Road, Alpine, CA 91901 | (619) 445-6315 | (619) 445-9126 | wmicklin@leaningrock.net.
Federated Indians of Graton Rancheria | Greg Sarris, Chairman | 6400 Redwood Drive, Suite 300, Rohnert Park, CA 94928 | (707) 566-2288 | (707) 566-2291
Fort Bidwell Indian Community of the Fort Bidwell Reservation | Kevin Dean Townsend, Chairman | P.O. Box 129, Fort Bidwell, CA 96112 | (530) 279-6310 | (530) 279-2233 | liz.zendejas@fbicc.com.
Fort Independence Indian Community of Paiute Indians of the Fort Independence Reservation | Norman Wilder, Chairperson | P.O. Box 67, Independence, CA 93526 | (760) 878-5160 | (760) 878-2311 | receptionist@fortindependence.com.
Fort Mojave Indian Tribe | Melvin Lewis, Sr., Social Services Department Director | 500 Merriman Avenue, Needles, CA 92363 | (928) 346-1550; (866) 346-6020 | (928) 346-1552 | ssidr@ftmojave.com.
Greenville Rancheria | Patty Allen, CFO & ICWA Coordinator | P.O. Box 279, Greenville, CA 95947 | (530) 284-7990 | (530) 284-3511 | pallen@greenvillerancheria.com.
Grindstone Indian Rancheria | Ronald Kirk, Chairman | ICWA, P.O. Box 63, Elk Creek, CA 95939 | (530) 968-5365 | (530) 968-5366 | girrancheria@yahoo.com.
Guidiville Rancheria | Merlene Sanchez, Tribal Chairperson | P.O. Box 339, Talmage, CA 95481 | (707) 462-3682 | (707) 462-9183 | admin@guidiville.net.
Habematolel Pomo of Upper Lake Rancheria | Sherry Treppa, Chairperson | P.O. Box 516, Upper Lake, CA 95485 | (707) 275-0737 | (707) 275-0757 | tribaladmin@upperlakepomo.com.
Hoopa Valley Tribe | Ryan Jackson, Chairperson | P.O. Box 1348, Hoopa, CA 95546 | (530) 625-4211 | (530) 625-4594 | hoopa.receptionist@gmail.com.
Hopland Band of Pomo Indians | Josephine Loomis, ICWA Social Case Manager | 3000 Shanel Rd., Hopland, CA 95449 | (707) 472-2100, Ext. 1114 | (707) 744-8643 | jloomis@hoplandtribe.com.
Inaja Band of Diegueno Mission Indians of the Inaja and Cosmit Reservation | Social Services Manager | P.O. Box 406, Pauma Valley, CA 92061 | (760) 749-1410 | (760) 749-5518 | kkolb@indianhealth.com.
Ione Band of Miwok Indians of California | Sara A. Dutschke Setshwaelo, Chairperson | P.O. Box 699, Plymouth, CA 95669 | (209) 245-5800 | (209) 245-6377 | administrator@ionemiwok.org.
Jackson Band of Miwuk Indians | Adam Dalton, Chairperson | P.O. Box 1090, Jackson, CA 95642 | (209) 223-1935 | (209) 223-5366 | mmorla@jacksoncasino.com.
Jamul Indian Village of California | Indian Child Social Services Director | 4058 Willow Rd., Alpine, CA 91903 | (619) 445-1188 | (619) 445-0765
Karuk Tribe | Russell Attebery, Chairman, and Patricia Hobbs, LCSW, Director of Human Services | 1519 S. Oregon Street, Yreka, CA 96097 | (530) 493-1600; (530) 841-3141 | (530) 493-5150 | battebery@karuk.us; phobbs@karuk.us.
Kashia Band of Pomo Indians of the Stewarts Point Rancheria | Dino Franklin, Jr., Chairman | 1420 Guerneville Rd., Suite 1, Santa Rosa, CA 95403 | (707) 591-0580 | (707) 591-0583 | tribalofc@stewartspointrancheria.com.
Kletsel Dehe Band of Wintun Indians | Charlie Wright, Chairperson | P.O. Box 1630, Williams, CA 95987 | (530) 473-3274 | (530) 473-3301 | cww281@gmail.com.
Koi Nation of Northern California (Previously Lower Lake Rancheria) | Darin Beltran, Chairperson | P.O. Box 3162, Santa Rosa, CA 95402 | (707) 575-5586 | (707) 575-5506
La Jolla Band of Luiseno Indians | Social Services Manager | P.O. Box 406, Pauma Valley, CA 92061 | (760) 749-1410 | (707) 749-5518 | kkolb@indianhealth.com.
La Posta Band of Diegueno Mission Indians of the La Posta Indian Reservation | Indian Child Social Services Director | 4058 Willow Rd., Alpine, CA 91903 | (619) 445-1188 | (619) 445-0765
Cahto Tribe of the Laytonville Rancheria | Mary J. Norris, Chairperson | P.O. Box 1239, Laytonville, CA 95454 | (707) 984-6197, Ext. 104 | (707) 984-6201 | chairman@cahto.org.
Iipay Nation of Santa Ysabel | Linda Ruis, Director | P.O. Box 701, Santa Ysabel, CA 92070 | (760) 765-1106 | (760) 765-0312 | Iipayinfo@yahoo.com.
Lone Pine Paiute Shoshone Tribe | Mary Weuster, Chairperson | P.O. Box 747, Lone Pine, CA 93545 | (760) 876-1034 | (760) 876-8302 | chair@lppsr.org.
Los Coyotes Band of Cahuilla & Cupeno Indians | Social Services Manager | P.O. Box 406, Pauma Valley, CA 92061 | (760) 749-1410 | (760) 749-5518 | kkolb@indianhealth.com.
Lytton Rancheria | Liz DeRouen | 2525 Cleveland Ave, Suite H, Santa Rosa, CA 95403 | (707) 544-8509 | (707) 544-8729 | lizderouen@sbcglobal.net.
Middletown Rancheria of Pomo Indians of California | Christine Dukatz, ICWA Director/Tribal Administrator | P.O. Box 623, Point Arena, CA 95468 | (707) 882-2788, Ext. 405 | (707) 882-3417 | christi.dukatz@gmail.com.
Manzanita Band of Diegueno Mission Indians of the Manzanita Reservation | Angela Santos, Acting Chairperson | P.O. Box 1302, Boulevard, CA 91905 | (619) 766-4930 | (619) 766-4957 | ljbirdsinger@aol.com.
Mechoopda Indian Tribe of the Chico Rancheria | Dennis Ramirez, Chairman | 125 Mission Ranch Boulevard, Chico, CA 95926 | (530) 899-8922 | (530) 899-8517 | mit@mechoopda@nsn.us.
Mesa Grande Band of Mission Indians of the Mesa Grande Reservation | Social Services Manager | P.O. Box 406, Pauma Valley, CA 92061 | (760) 749-1410 | (760) 749-5518 | kkolb@indianhealth.com.
Middletown Rancheria of Pomo Indians of California | Mary Comito, ICWA Director | P.O. Box 1829, Middletown, CA 95461 | (707) 987-8288; (707) 326-6876 | (707) 987-8205 | mcomito@middletownrancheria.com.
Mooretown Rancheria of Maidu Indians of California | Benjamin Clark, Tribal Chairman | 1 Alverda Drive, Oroville, CA 95966 | (530) 533-3625 | (530) 533-3680 | lwinner@mooretown.org.
Morongo Band of Cahuilla Mission Indians | Paula Tobler, Social Worker | 11581 Potrero Road, Banning, CA 92220 | (951) 849-4697 | (951) 922-0338
Northfork Rancheria of Mono Indians of California | Gary Walker, Chairman | P.O. Box 929, Fort Birdswell Fork, CA 96112 | (559) 877-2461 | (559) 877-2467 | nfrancheria@northforkrancheria-nsn.gov.
Pala Band of Mission Indians | Robert Smith, Chairman | 35008 Pala-Temecula Road, PMB-50, Pala, CA 92059 | (760) 891-3500 | (760) 891-3587
Paskenta Band of Nomlaki Indians | Natasha Magana, Tribal Member at Large | P.O. Box 709, Corning, CA 96021 | (530) 528-3538 | (530) 528-3553 | office@paskenta.org.
Pauma Band of Luiseno Mission Indians of the Pauma & Yuima Reservation | Social Service Manager | P.O. Box 406, Pauma Valley, CA 92061 | (760) 749-1410 | (760) 749-5518 | kkolb@indianhealth.com.
Pechanga Band of Luiseno Mission Indians of the Pechanga Reservation | Mark Macarro, Chairman | P.O. Box 1477, Temecula, CA 92593 | (951) 676-2768 | (951) 695-1778
Picayune Rancheria of Chukchansi Indians of California | Jennifer Ruiz, Chairperson | P.O. Box 2146, Oakhurst, CA 93644 | (559) 412-5590 | (559) (559) 440-6494 | info@chukchansi-nsn.gov.
Pinoleville Pomo Nation | Clayton Freeman, ICWA Coordinator | 500B Pinoleville Drive, Ukiah, CA 95482 | (707) 463-1454, Ext. 123 | (707) 463-6601 | claytonf@pinoleville-nsn.gov.
Pit River Tribe | Agnes Gonzalez, Chairperson | 36970 Park Avenue, Burney, CA 96013 | (530) 335-5421 | (530) 335 3140 | administrator@pitrivertribe.org.
Potter Valley Tribe | Salvador Rosales, Tribal Chairman | 2251 South State Street, Ukiah, CA 95482 | (707) 462-1213 | (707) 462-1240 | pvtsecretary@pottervalleytribe.com.
Quartz Valley Indian Community of the Quartz Valley Reservation | Conrad Croy, ICWA Director | 13601 Quartz Valley Rd., Fort Jones, CA 96032 | (530) 468-5907, Ext. 312 | (530) 468-5908 | Conrad.Croy@qvir-nsn.gov.
Ramona Band of Cahuilla | Joseph Hamilton, Chairman | P.O. Box 391670 Anza, CA 92539 | (951) 763-4105 | (951) 763-4325
Redding Rancheria | Jack Potter, Jr., Chairman; Hope Wilkes, Senior Director of Program Services | 2000 Rancheria Road, Redding, CA 96001-5528 | (530) 225-8979, Ext. 1101 | (530) 241-1879 | hopew@redding-rancheria.com.
Redwood Valley or Little River Band of Pomo Indians of the Redwood Valley Rancheria | Chris Piekarski, ICWA Coordinator | 3250 Road I, “B” Building, Redwood Valley, CA 95470 | (707) 485-0361 | (707) 485-5726 | icwa@rvrpomo.net.
Resighini Rancheria | Fawn Murphy, President | P.O. Box 529, Klamath, CA 95548 | (707) 482-2431 | (707) 482-3425 | resighini@gmail.com.
Rincon Band of Luiseno Mission Indians of the Rincon Reservation | Social Services Manager | P.O. Box 406, Pauma Valley, CA 92061 | (760) 749-1410 | (760) 749-5518 | kkolb@indianhealth.com.
Robinson Rancheria Band of Pomo Indians | Marsha Lee, ICWA Coordinator | P.O. Box 4015, Nice, CA 95464 | (707) 275-0527 | (707) 275-0235
Round Valley Indian Tribes, Round Valley Reservation | James Russ, President | 77826 Covelo Road, Covelo, CA 95428 | (707) 983-6126 | (707) 983-6128 | president@council.rvit.org.
San Manuel Band of Mission Indians | Tribal Secretary | 26569 Community Center Drive, Highland, CA 92346 | (909) 864-8933 | (909) 864-0890 | broberson@sanmanual-nsn.gov.
San Pasqual Band of Diegueno Mission Indians | Social Services Manager | P.O. Box 406, Pauma Valley, CA 92061 | (760) 749-1410 | (760) 749-5518 | kkolb@indianhealth.com.
Santa Rosa Band of Cahuilla Indians | Steven Estrada, Tribal Chairperson | P.O. Box 391820, Anza, CA 92539 | (951) 659-2700 | (951) 689-2228 | srtribaloffice@aol.com.
Santa Rosa Indian Community of the Santa Rosa Rancheria | Ruben Barrios, Chairman | P.O. Box 8, Lemoore, CA 93245 | (559) 924-1278 | (559) 925-2931
Santa Ynez Band of Mission Indians | Caren Romero, ICWA Representative | 90 Via Juana Lane, Santa Ynez, CA 93460 | (805) 694-2671 | (805) 686-2060 | cromero@sythc.com.
Santa Ynez Band of Chumash Mission Indians of the Santa Ynez Reservation | Kenneth Khan, Chairman | P.O. Box 517, Santa Ynez, CA 93460 | (805) 688-7997 | (805) 686-9578 | info@sybmi.org.
Santa Ysabel Band of Mission Indians-Iipay Nation | Linda Ruis, Director | P.O. Box 701, Santa Ysabel, CA 92070 | (760) 765-1106 | (760) 765-0312
Scotts Valley Band of Pomo Indians | Kathy Russ, ICWA Advocate | 301 Industrial Ave., Lakeport, CA 95453 | (707) 263-4220 | (707) 263-4345
Sherwood Valley Rancheria of Pomo Indians of California | Michael Knight, Chairman; Travis Wright, ICWA Advocate | 190 Sherwood Hill Drive, Willits, CA 95490 | (707) 459-9690 | (707) 459-6936 | svrchairman@sherwoodband.com; twright@sherwoodband.com.
Shingle Springs Band of Miwok Indians (Shingle Springs Rancheria) | Regina Cuellar, Chairman | P.O. Box 1340, Shingle Springs, CA 95682 | (530) 698-1400 | (530) 387-8064 | tribalchairperson@ssband.org.
Soboba Band of Luiseno Indians | Alicia Golchuk, Director of Soboba Tribal Family Services | P.O. Box 487, San Jacinto, CA 92581 | (951) 487-0283 | (951) 487-1738 | agolchuk@soboba-nsn.gov.
Susanville Indian Rancheria | Deana M. Bovee', Tribal Chairwoman | 745 Joaquin St., Susanville, CA 96130 | (530) 257-6264 | (530) 257-7986 | dbovee@sir-nsn.gov.
Sycuan Band of Mission Indians | Indian Child Social Services Director | 4058 Willow Rd., Alpine, CA 91903 | (619) 445-1188 | (619) 445-0765
Sycuan Band of the Kumeyaay Nation | Cody Martinez, Chairman | 1 Kwaaypaay Court, El Cajon, CA 92019 | (619) 445-2613 | (619) 445-1927 | emartinez@sycuan-nsn.gov.
Table Mountain Rancheria | Leanne Walker-Grant, Chairperson | P.O. Box 410, Friant, CA 93626 | (559) 822-2587 | (559) 822-2693
Tejon Indian Tribe | Octavio Escobedo, Chairperson | 1731 Hasti Acres Drive, Suite 108, Bakersfield, CA 93309 | (661) 834-8566 | (661) 834-8564 | office@tejontribe.net.
Death Valley Timbi-sha Shoshone Tribe | Wallace Eddy, ICWA Representative | 621 West Line Street, Suite 109, Bishop, CA 93514 | (760) 872-3614 | (760) 872-3670 | icwa@timbisha.com.
Tolowa Dee-ni' Nation | Denise Richards-Padgette, Chairman | 140 Rowdy Creek Road, Smith River, CA 95567 | (707) 487-9255 | (707) 487-0930 | Briannon.Fraley@tolowa.com.
Torres Martinez Desert Cahuilla Indians | Thomas Tortez, Chairman | P.O. Box 1160, Thermal, CA 92274 | (760)-397-0300 | (760) 397-8146 | thomas.tortez@torresmartinez-nsn.gov.
Cher-Ae Heights Indian Community of the Trinidad Rancheria | Amy Atkins, Executive Manager | P.O. Box 630, Trinidad, CA 95570 | (760) 397-0300 | (760) 397-8146 | aatkins@trinidadrancheria.com.
Tule River Indian Tribe of the Tule River Reservation | Neil Peyron, Chairman | P.O. Box 589, Porterville, CA 93258 | (559) 781-4271, Ext. 1013 | (559) 781-4610 | Neil.Peyron@tulerivertribe-nsn.gov.
Tuolumne Band of Me-Wuk Indians of the Tuolumne Rancheria of California | Kevin Day, Chairman | P.O. Box 699, Tuolumne, CA 95379 | (209) 928-3475 | (209) 928-1677 | tmtc@mlode.com.
Twenty-Nine Palms Band of Mission Indians | Darrell Mike, Spokesman | 46-200 Harrison Place, Coachella, CA 92236 | (760) 863-2444 | (760) 863-2449
Berry Creek Rancheria of Maidu Indians | Maria Ramirez, ICWA Director & Tribal Representative | 5 Tyme Way, Oroville, CA 95966 | (530) 534-3859 | (530) 534-0343 | mramirez@berrycreekrancheria.com.
United Auburn Indian Community of the Auburn Rancheria of California | Gene Whitehouse, Chairman | 10720 Indian Hill Road, Auburn, CA 95603 | (530) 883-2390 | (530) 833-2380 | jbeck@auburnrancheria.com.
Utu Utu Gwaitu Paiute Tribe of the Benton Reservation | Tina Braithwaite, Chairperson | 25669 Highway 6, PMB 1, Benton, CA 93512 | (760) 933-2321 | (760) 933-2412
Capitan Grande Band of Diegueno Mission Indians of California: Viejas | Indian Child Social Services Director | 4058 Willow Rd., Alpine, CA 91903 | (619) 445-1188 | (619) 445-0765
Wilton Rancheria | Vanessa Pady, Director | ICWA 9728 Kent St., Elk Grove, CA 95624 | (707) 683-6000, Ext. 2014 | (916) 683-6015 | vpady@wiltonrancheria-nsn.gov.
Wiyot Tribe | Theodore Hernandez, Chairperson | 1000 Wiyot Drive, Loleta, CA 95551 | (707) 733-5055 | (707) 733-5601 | michelle@wiyot.us.
Yocha Dehe Wintun Nation | James Kinter, Tribal Council Secretary | P.O. Box 18, Brooks, CA 95606 | (530) 796-3400 | (530) 796-2143 | djones@yochadehe-nsn.gov.
Yurok Tribe of the Yurok Reservation | Stephanie Weldon, Social Services Director | P.O. Box 1027, Klamath, CA 95548 | (707) 482-1350, ext. 1415, Social Services | (707) 482-1368 | sweldon@yuroktribe.nsn.us.
* As of date of publication, there is no recognized government for this federally recognized tribe. Please contact Bureau of Indian Affairs, Pacific Regional Director for up to date information.

9. Rocky Mountain Region

Rocky Mountain Regional Director, 2021 4th Avenue N, Billings, MT 59101; Phone: (406) 247-7943; Fax: (406) 247-7976.

Tribe | ICWA POC | Mailing address | Phone No. | Fax No. | Email address
Blackfeet Tribe of Montana | Kathy Calf Boss Ribs, ICWA Coordinator; Darlene H. Peterson, ICWA Inquiry Technician | P.O. Box 588, Browning, MT 59417 | (406) 338-7806 | (406) 338-7726 | kathybossribs@yahoo.com.
Chippewa Cree Tribe of the Rocky Boy's Reservation of Montana | Shaneen Raining Bird Hammond, ICWA Case Manager | 31 Agency Square, Box Elder, MT 59521 | (406) 395-5709 | (406) 395-5702 | rainingbirds@yahoo.com.
Crow Agency | Jackie Yellow Tail, ICWA Coordinator | P.O. Box 159, Crow Agency, MT 59022 | (406) 679-0989 |  | JackieYellowtail@crow-nsn.gov.
Eastern Shoshone Tribe of the Wind River Reservation | Amella Oldman, ICWA Coordinator | P.O. Box 1796, Fort Washakie, WY 82514 | (307) 332-6591 | (307) 332-6593 | artoldman@gmail.com.
Fort Belknap Indian Community | Myron L. Trottier, ICWA Case Manager | 656 Agency Main Street, Harlem, MT 59526 | (406) 353-8328 | (406) 353-4634 | mtrottier@ftbelknap.org.
Fort Peck Assiniboine and Sioux Tribes | Phyllis Spotted Wolf, ICWA Coordinator | P.O. Box 1027, Poplar, MT 59255 | (406) 768-2308 | (406) 768-3710 | pspottedwolf@fortpecktribes.net.
Northern Arapaho Tribe of the Wind River Reservation | June Shakespeare, ICWA Coordinator | P.O. Box 77, St. Stevens, WY 82524 | (307) 857-5728 | (307) 857-5741 | june.shakespeare@wyo.gov.
Northern Cheyenne Tribe | Michelle Littlewolf Sandcrane, Acting ICWA Coordinator | P.O. Box 128, Lame Deer, MT 59043 | (406) 477-4830; (406) 477-4828 | (406) 477-8333 | Michelle.littlewolf@cheyennenation.com.

10. Southern Plains Region

Southern Plains Regional Director, P.O. Box 368, Anadarko, OK 73005; Phone: (405) 247-6673 Ext. 217; Fax: (405) 247-5611.

Tribe | ICWA POC | Mailing address | Phone No. | Fax No. | Email address
Absentee-Shawnee Tribe of Oklahoma Indians | William Starr, ICW Director | 2025 S. Gordon Cooper Drive, Shawnee, OK 74801 | (405) 395-4490 | (405) 395-4495 | williams@astribe.com.
Alabama Coushatta Tribe of Texas | Melissa Celestine, ICW Director | 571 State Park Road, #56, Livingston, Texas 77351 | (936) 563-1253 | (936) 563-1254 | celestine.melissa@actribe.org.
Apache Tribe of Oklahoma (Kiowa) | Shannon Ahtone, ICW Director | P.O. Box 369, Carnegie, Oklahoma 73015 | (580) 654-2439 | (580) 654-2363 | shannon_kiowa_icw@yahoo.com.
Caddo Nation of Oklahoma (Wichita & Affiliated Tribes) | Pamela Satepauhoodle, ICW Caseworker | P.O. Box 729, Anadarko, OK 73005 | (405) 247-8624 | (405) 247-3256 | pamela.satepauhoodle@wichitatribe.com.
Cheyenne and Arapaho Tribes of Oklahoma | Rachel Felter, ICW Coordinator | P.O. Box 27, Concho, OK 73022 | (405) 422-7557 | (405) 422-8249 | rfelter@c-a-tribes.org.
Citizen Potawatomi Nation | Janet Draper, ICW Director | 1601 S. Gordon Cooper Drive, Shawnee, OK 74801 | (405) 878-4831 | (405) 878-4659 | jdraper@potawatomi.org.
Comanche Nation-Oklahoma | Carol Mithlo, ICW Director | P.O. Box 908, Lawton, OK 73502 | (580) 280-4751 | (580) 354-0808 | carolm@comanchenation.com.
Delaware Nation | Cassandra Acuna, ICW Director | P.O. Box 825, Anadarko, OK 73005 | (405) 247-2448, Ext. 1152 | (405) 247-5942 | cacuna@delawarenation.com.
Fort Sill Apache Tribe of Oklahoma | ICWA Coordinator | 43187 US Highway 281, Apache, OK 73006 | (580) 522-2298, Ext. 109 | (580) 588-2106 | canioleys@yahoo.com.
Iowa Tribe of Kansas | Native American Family Services, Chairperson | 3303 B. Thrasher Rd., White Cloud, KS 66094 | (785) 595-3260 | (785) 595-6610 |
Iowa Tribe of Oklahoma | Tamara Hudgins, ICW Director | Rt. 1, Box 721, Perkins, OK 74059 | (405) 547-2402 | (405) 547-1032 | thudgins@iowanation.org.
Kaw Nation | Lebrandia Lemley, ICW Director | Drawer 50, Kaw City, Oklahoma 74641 | (580) 269-2003 | (580) 269-2113 | llemley@kawnation.com.
Kickapoo Traditional Tribe of Texas | Arianna Perez, ICW Director | 2212 Rosita Valley Road, Eagle Pass, Texas 78852 | (830) 421-6300 |  | arianna.perez@ktttribe.org.
Kickapoo Tribe of Indians of The Kickapoo Reservation in Kansas | Timothy Oliver, ICW Director | P.O. Box 271, Horton, KS 66439 | (785) 486-2131 |  | timothy.oliver@ktik-nsn.gov.
Kickapoo Tribe of Oklahoma | Nathie Wallace, Indian Child Welfare Director | P.O. Box 469, McLoud, OK 74851 | (405) 964-5426 | (405) 964-5431 |
Kiowa Tribe of Oklahoma | Shannon Ahtone, ICW Director | P.O. Box 369, Carnegie, Oklahoma 73015 | (580) 654-2439 | (580) 654-2363 | shannon_kiowa_icw@yahoo.com.
Otoe-Missouria Indian Tribe of Oklahoma | Andrea Kihega, ICW Director | 8151 Highway 177, Red Rock, OK 74651 | (580) 723-4466, Ext. 256 or Cell Phone: (580) 307-7303 | (580) 723-1016 | akihega@omtribe.org.
Pawnee Nation of Oklahoma | Amanda Farren, ICWA Director | P.O. Box 470, Pawnee, OK 74058 | (918) 762-3621, Ext. 175 |  | afarren@pawneenation.org
Ponca Tribe of Oklahoma | Stephanie Ruminer, ICWA Director | 20 White Eagle Drive, Ponca City, OK 74601 | (580) 763-0133 | (580) 763-0134 | ptoicw@gmail.com.
Prairie Band of Potawatomi Nation | Tammy Sweeney, ICW Director | 16281 Q. Road, Mayetta, KS 66509 | (785) 966-2932, Ext. 8325 | (786) 966-2950 | tammysweeney@pbpnation.org.
Sac and Fox Nation in Kansas and Nebraska | Chasity Davis, ICW Director | 305 N. Main Street, Reserve, KS 66434 | (785) 742-4708 | (785) 288-1163 | cdavis@sacandfoxcasino.com.
Sac and Fox Nation, Oklahoma | Karen Hamilton, ICW Director | 215 North Harrison, Shawnee, Ok 74801 | (918) 968-3526, Ext. 1711 | 405-395-0858 | karen.hamilton@sacandfoxnation-nsn.gov.
Tonkawa Tribe of Oklahoma | Christi Gonzalez, ICW Director | P.O. Box 70, Tonkawa, OK 74653 | (580) 628-7025 | (580) 628-7025 | cgonzalez@tonkawatribe.com.
Wichita and Affiliated Tribe of Oklahoma | Joan Williams, ICW Director | P.O. Box 729, Anadarko, OK 73005 | (405) 247-8627 | (405) 247-3256 | joan.williams@wichitatribe.com.

11. Southwest Region

Southwest Regional Director, 1001 Indian School Road NW, Albuquerque, NM 87104; Phone: (505) 563-3103; Fax: (505) 563-3101

Tribe | ICWA POC | Mailing address | Phone No. | Fax No. | Email address
Jicarilla Apache Nation | Gina Keeswood, ICWA Specialist | P.O. Box 1520, Dulce, NM 87528 | (575) 759-1712 | (575) 759-3757 | gkeeswood@jbhd.org.
Mescalero Apache Tribe | Isabel Guerrero, ICWA Case Manager | P.O. Box 228, Mescalero, NM 88340 | (575) 464-4334 | (575) 464-9331 | iguerrero@mescaleroapachetribe.com.
Pueblo of Acoma | Brianna Fank, Child Welfare Specialist | P.O. Box 354, Acoma, NM 87034 | (505) 552-5161 | (505) 552-0903 | bfank@poamail.org.
Pueblo of Cochiti | Tanya Devon Torres, ICWA Specialist | P.O. Box 70, Cochiti Pueblo, NM 87072 | (505) 465-3139 | (505) 465-3173 | tanya_torres@pueblodecochiti.org.
Pueblo of Isleta | Caroline Dailey, Social Services Director | P.O. Box 1270, Isleta, NM 87022 | (505) 869-2772; (505) 869-5283 | (505) 869-7575 | poi05001@isletapueblo.com.
Pueblo of Isleta | Jacqueline Yalch, ICWA Coordinator | P.O. Box 1270, Isleta, NM 87022 | (505) 869-2772; (505) 869-5283 | (505) 869-7575 | poi05001@isletapueblo.com.
Pueblo of Jemez | Annette Gachupin, Child Advocate | P.O. Box 340, Jemez Pueblo, NM 87024 | (575) 834-7117 | (575) 834-7103 | agachupin@jemezpueblo.us.
Pueblo of Laguna | Tracy Zamora, Social Services Specialist | P.O. Box 194, Laguna, NM 87026 | (505) 552-6513; (505) 552-5677 | (505) 552-6387 | tzamora@lagunapueblo-nsn.gov.
Pueblo of Nambe | Julie Bird, ICWA Manager | 15A NP 102 West, Santa Fe, NM 87506 | (505) 445-4446 | (505) 455-4449 | ICWA@nambepueblo.org.
Pueblo of Picuris | Deborah Shemayme, ICWA Director | P.O. Box 127, Penasco, NM 87553 | (575) 288-9047 | (575) 587-1003 | icwa@picurispueblo.org.
Pueblo of Pojoaque | Elizabeth Duran, Social Services Director | 58 Cities of Gold Rd., Suite 4, Santa Fe, NM 87506 | (505) 455-0238 | (505) 455-2363 | eduran@pojoaque.org.
Pueblo of San Felipe | Darlene J. Valencia, Family Services Director/ICWA Representative | P.O. Box 4339, San Felipe Pueblo, NM 87004 | (505) 771-9900 Ext. 1150 | (505) 771-9978 | dvalencia@sfpueblo.com.
Pueblo of San Ildelfonso | Trever Mehege. ICWA/Family Advocate | 02 Tunyo Po, Santa Fe, NM 87506 | (505) 455-4164; (505) 699-0164 | icwamanager@sanipueblo.org.
Ohkay Owingeh | Rochelle Thompson, ICWA Manager | P.O. Box 1187, Ohkay Owingeh, NM 87566 | (575) 852-6108 | (505) 692-0333 | Rochelle.thompson@ohkay.org.
Pueblo of Sandia | Shara Moscinska, BH Manager | 481 Sandia Loop, Bernalillo, NM 87004 | (505) 771-5131 | (505) 867-7099 | smoscinska@sandiapueblo.nsn.us.
Pueblo of Santa Ana | Theresa Ortiz, Social Services Manager | 02 Dove Road, Santa Ana Pueblo, NM 87004 | (505) 771-6737 | (505) 771-6537 | Theresa.Ortiz@santaana-nsn.gov.
Pueblo of Santa Clara | Dennis Silva, Director of Social Services | P.O. Box 580, Espanola, NM 87532 | (505) 753-0419 | (505) 753-0420 | dsilva@santaclarapueblo.org.
Pueblo of Santo Domingo-Kewa | Virginia Tenorio, Family Services Worker | P.O. Box 129, Santo Domingo, NM 87052 | (505) 465-0630 | (505) 465-2554 | vtenorio@kewa-nsn.us.
Pueblo of Santo Domingo-Kewa | Doris Bailon, Social Services Director | P.O. Box 129, Santo Domingo, NM 87052 | (505) 465-0630 | (505) 465-2554 | dbailon@kewa-nsn.us.
Pueblo of Taos | Stacie Waters, ICWA Manager | P.O. Box 1846, Taos, NM 87571 | (575) 758-7824 | (575) 758-3346 | swaters@taospueblo.com.
Pueblo of Tesuque | Donna Quintana, ICWA Director | Route 42, Box 360-T, Santa Fe, NM 87506 | (505) 469-0173 | (505) 820-7780 | donna.quintana@pueblooftesuque.org.
Pueblo of Zia | David P. Montoya, Social Services/ICWA Program Manager | 135 Capital Square Drive, Zia Pueblo, NM 87053 | (505) 401-8142 | (505) 867-3308 | dmontoya@ziapueblo.org.
Pueblo of Zuni | April Seciwa, Interim Social Services Director | P.O. Box 339, Zuni, NM 87327 | (505) 782-7166 | (505) 782-7221 | April.Seciwa@ashiwi.org.
Southern Ute Indian Tribe | Julianne Begay, Social Services Attorney | MS 53, P.O. Box 737, Ignacio, CO 81137 | (970) 563-0100 Ext. 2144 | (970) 563-4854 | jbegay@southernute-nsn.gov.
Ute Mountain Ute Tribe (Colorado & Utah) | Tywana Billie Lopez, UMU Social Services Director | P.O. Box 309, Towaoc, CO 81334 | (970) 564-5307 | (970) 564-5300 | tbillie@utemountain.org.
Ysleta Del Sur Pueblo | Leah Lopez, LMSW- Supervisor | 9314 Juanchido Ln., El Paso, TX 79907 | (915) 860-6170 | (915) 242-6556 | llopez@ydsp-nsn.gov.

12. Western Region

Western Regional Director, 2600 North Central Avenue, Phoenix, AZ 85004; Phone: (602) 379-6600; Fax: (602) 379-4413.

Tribe | ICWA POC | Mailing address | Phone No. | Fax No. | Email address
Ak-Chin Indian Community | Dorissa Garcia, Enrollment Coordinator | 42507 West Peters & Nall Road, Maricopa, AZ 85138 | (520) 568-1074 | (520) 568-1079 | dgarcia@ak-chin.nsn.us.
Battle Mountain Band Council | Tammy Carrera, Social Services Director | 37 Mountain View Drive, Battle Mountain, NV 89820 | (775) 635-2004, Ext. 108 | (775) 635-8528 | bmbssd2018@outlook.com.
Chemehuevi Indian Tribe | Dawn McElwain, ICWA Director | P.O. Box 1976, Havasu Lake, CA 92363 | (760) 858-5426 | (760) 858-5400 | icwa@cit-nsn.gov.
Cocopah Indian Tribe | Rafael D. Morales, Jr., ICWA Worker | 14515 South Veterans Drive, Somerton, AZ 85350 | (928) 627-3729 | (928) 627-3316 | moralesr@cocopah.com.
Colorado River Indian Tribes | Rebecca Loudbear, Attorney General | 26600 Mohave Road, Parker, AZ 85344 | (928) 669-1271 | (928) 669-5675 | rloudbear@critdoj.com.
Confederated Tribes of the Goshute Reservation | Jeanine Hooper, Social Services/ICWA Director | HC61 Box 6104, Ibapah, UT 84034 | (833) 228-6509 | (435) 234-1219 | jeanine.hooper@ctgr.us.
Duckwater Shoshone Tribe | Brenda O'Neil, Assistant Health Manager | P.O. Box 140087, Duckwater, NV 89314 | (775) 863-0222 | (775) 863-0142 | brenda.oneil@ihs.gov.
Elko Band Council of Te-Moak Tribe | Marlene Dick, Social Worker | 1745 Silver Eagle Drive, Elko, NV 89801 | (775) 738-9310 | (775) 778-3397 | ssworker@elkoband.org.
Ely Shoshone Tribe | Georgia Valdez, Social Services Worker | 250B Heritage Drive, Ely, NV 89301 | (775) 289-4133 | (775) 289-3237 |
Fallon Paiute-Shoshone Tribe | Patricia Henry, ICWA Representative | 1007 Rio Vista Drive, Fallon, NV 89406 | (775) 423-1215 | (775) 423-8960 | yfsdirector@fpst.org.
Fort McDermitt Paiute-Shoshone Tribe | Alena Dave, ICWA Advocate | P.O. Box 68, McDermitt, NV 89421 | (775) 532-8263, Ext. 111 | (775) 532-8060 | alenadave83@gmail.com.
Fort McDowell Yavapai Nation | James Esquirell, ICWA Coordinator/CPS Worker Wassaja Family Services | P.O. Box 17779, Fountain Hills, AZ 85269 | (480) 789-7990 | (480) 837-4809 | jesquirell@ftmcdowell.org.
Fort Mojave Indian Tribe | Melvin Lewis, Sr., Social Services Director | 500 Merriman Avenue, Needles, CA 92363 | (928) 346-1550 or Toll Free (866) 346-6010 | (928) 346-1552 | ssdir@ftmojave.com.
Gila River Indian Community | Antoinette Enos, ICWA Case Manager | P.O. Box 427, Sacaton, AZ 85147 | (520) 562-3396 | (520) 562-3633 | antoinette.enos@gric.nsn.us.
Havasupai Tribe | Rita Uqualla, ICWA Coordinator | P.O. Box 10, Supai, AZ 86435 | (928) 448-2661 | (928) 448-2551 | hticwa@havasupai-nsn.gov.
Hopi Tribe | Eva Sekayumptewa, Social Services Program, Clinical Supervisor | P.O. Box 945, Polacca, AZ 86042 | (928) 734-3000 | (928) 734-1157 | esekayumptewa@hopi.nsn.us.
Hualapai Tribe | Idella Keluche, ICWA Worker | P.O. Box 480, Peach Springs, AZ 86434 | (928) 769-2269/2383/2384/2397 | (928) 769-2659 | ikeluche@hualapai-nsn.gov.
Kaibab Band of Paiute Indians | Jennie K. Kalauli, Social Services Director | HC 65 Box 2, Fredonia, AZ 86022 | (928) 643-8320 | (888) 939-3777 | jkalauli@kaibabpaiute-nsn.gov.
Las Vegas Paiute Tribe | Constance Holdip, Social Services | 1257 Paiute Circle, Las Vegas, NV 89106 | (702) 382-0784, Ext. 410 | (702) 384-5272 | choldip@lvpaiute.com.
Lovelock Paiute Tribe | Maribel Morales, ICWA Case Worker | P.O. Box 878, Lovelock, NV 89419 | (775) 273-7861, Ext. 14 | (775) 273-3802 | icwa@lovelocktribe.com.
Moapa Band of Paiutes | Gregory T. Anderson, Sr., Chairman | P.O. Box 340, Moapa, NV 89025 | (702) 865-2787 | (702) 865-2875 | chair.mbop@moapabandofpaiutes.org.
Paiute Indian Tribe of Utah | Tyler Goddard, Health Director | 440 North Paiute Drive, Cedar City, UT 84721 | (435) 586-1112 | (435) 238-4262 | tgoddard@fourpointshealth.org.
Pascua Yaqui Tribe | Tamara Walters, Assistant Attorney General | 7777 S. Camino Huivisim, Bldg. C, Tucson, AZ 85757 | (520) 883-5108 | (520) 883-5084 | tamara.walters@pascuayaqui-nsn.gov.
Pyramid Lake Paiute Tribe | Charlene Dressler, Social Services Director | P.O. Box 256, Nixon, NV 89424 | (775) 574-1047 | (775) 574-1052 | cdressler@plpt.nsn.us.
Quechan Indian Tribe | Cody I. Hartt, ICWA Specialist/Tribal Representative | P.O. Box 1899, Yuma, AZ 85366 | (760) 570-0201 | (760) 572-2099 | icwaspecialist@quechantribe.com.
Reno-Sparks Indian Colony | Adriana Botello, Human Services Director | 405 Golden Lane, Reno, NV 89502 | (775) 329-5071 | (775) 785-8758 | abotello@rsic.org.
Salt River Pima-Maricopa Indian Community | Allison Miller, ICWA Coordinator | 10005 East Osborn Road, Scottsdale, AZ 85256 | (480) 362-5645; (480) 362-7533 | (480) 362-5574 | Allison.Miller@srpmic-nsn.gov.
San Carlos Apache Tribe | Aaron Begay, ICWA Coordinator | P.O. Box 0, San Carlos, AZ 85550 | (928) 475-2313 | (928) 475-2342 | abegay09@tss.scat-nsn.gov.
San Juan Southern Paiute Tribe | Mary Lou Boone, Enrollement Officer | P.O. Box 2950, Tuba City, AZ 86045 | (928) 212-9794 | (928) 233-8948 | m.boone@sanjuanpaiute-nsn.gov.
Shoshone-Paiute Tribes of the Duck Valley Reservation | Roberta Hanchor, Social Worker | P.O. Box 219, Owyhee, NV 89832 | (775) 757-2921 | (775) 757-2910 | hanchor.roberta@shopai.org.
Skull Valley Band of Goshute Indians | Stormey Goddard, ICWA/Social Services Worker | 407 Skull Valley Road, Skull Valley, UT 84029 | (801) 502-3110 |  | stormeyg@svgoshutes.com.
South Fork Band, Te-Moak of Western Shoshone | Cheryl Mose-Temoke, Acting Interim Social Worker | 21 Lee, B-13, Spring Creek, NV 89815 | (775) 744-4273, Ext. 2 or 107 | (775) 744-4523 | sforkcouncil.admin@gmail.com.
Summit Lake Paiute Tribe | Randi DeSoto, Chairwoman | 1001 Rock Blvd., Sparks, NV 89431 | (775) 827-9670 | (775) 827-9678 | randi.desoto@summitlaketribe.org.
Tohono O'odham Nation | Joshua Rees, Attorney General | P.O. Box 830, Sells, AZ 85634 | (520) 383-3410 | (520) 383-2689 | joshua.rees@tonation-nsn.gov.
Tonto Apache Tribe of Arizona | Belinda Guerra, ICWA Coordinator | T.A.R. #30, Payson, AZ 85541 | (928) 474-5000, Ext. 8127 | (928) 474-9125 | bguerra@tontoapache.org.
Ute Indian Tribe | Floyd M. Wyasket, Social Services Director | P.O. Box 925, Fort Duchesne, UT 84026 | (435) 725-4054 | (435) 722-5030 | floydw@utetribe.com.
Washoe Tribe of Nevada and California | Stacy L. Stahl, Social Services Director | 919 Hwy 395 N, Gardenville, NV 89410 | (775) 265-8691 | (775) 265-4593 | Stacy.Stahl@washoetribe.us.
Walker River Paiute Tribe | Elliott Aguilar, ICWA Specialist | P.O. Box 146, 1025 Hospital Road, Schurz, NV 89427 | (775) 773-2058 | (775) 773-2096 | eaguilar@wrpt.gov.
Wells Band Council, Te-Moak of Western Shoshone | Alicia Kooi, Social Services Coordinator | P.O. Box 809, Wells, NV 89835 | (775) 752-3045, Ext. 1009 | (775) 752-2179 | wellsbandssicwa@gmail.com.
White Mountain Apache Tribe | Cora Hinton, ICWA Representative/CPS Supervisor | P.O. Box 1870, Whiteriver, AZ 85941 | (928) 338-4164 | (928) 338-1469 | chinton@wmat.us.
Winnemucca Tribe | Judy Rojo, Chairperson | 595 Humboldt Street, Reno, NV 89509 | (775) 329-5800 | (775) 329-5819 |
Yavapai-Apache Nation | Delight Lyons, ICWA Coordinator | 2400 West Datsi Street, Camp Verde, AZ 86322 | (928) 649-7108 | (928) 567-6832 | dkplunkett@yan-tribe.org.
Yavapai-Prescott Indian Tribe | Marie James, Family Support Supervisor | 530 East Merritt, Prescott, AZ 86301 | (928) 515-7351 | (928) 541-7945 | mariejames@ypit.com.
Yerington Paiute Tribe | Nathaniel Landa, Human Services Director | 171 Campbell Lane, Yerington, NV 89447 | (775) 783-0200, Ext. 360 | (775) 463-5929 | nlanda@ypt-nsn.gov.
Yomba Shoshone Tribe | Belinda Hooper, Social Services Eligibility Worker | HC 61 Box 6275, Austin, NV 89310 | (775) 964-2463, Ext. 117 | (775) 964-1352 | yombasocialservices@gmail.com.

B. Tribal Agents by Tribal Affiliation

See: http://www.bia.gov/WhoWeAre/BIA/OIS/HumanServices/index.htm.

Dated: April 26, 2019.
Tara Sweeney,
Assistant Secretary—Indian Affairs.

[FR Doc. 2019-09611 Filed 5-8-19; 8:45 am]

BILLING CODE 4337-15-P